DEPARTMENT OF COMMERCE

National Telecommunications and Information Administration

RIN 0660-ZA29

State Broadband Data and Development Grant Program

AGENCY: The National Telecommunications and Information Administration, U.S. Department of Commerce.

ACTION: Notice of funds availability (Notice) and solicitation of applications.

SUMMARY: The National Telecommunications and Information Administration (NTIA), U.S. Department of Commerce, publishes this Notice to announce the availability of funds pursuant to the American Recovery and Reinvestment Act of 2009 (Recovery Act), Public Law 111-5 (Feb. 17, 2009), and the Broadband Data Improvement Act (BDIA), Title I of Public Law 110-385, 122 Stat. 4096 (Oct. 10, 2008) and to provide guidelines for the State Broadband Data and Development Grant Program (State Broadband Data Program or Program). The State Broadband Data Program is a competitive, merit-based matching grant program that effects the joint purposes of the Recovery Act and the BDIA by funding projects that collect comprehensive and accurate State-level broadband mapping data, develop State-level broadband maps, aid in the development and maintenance of a national broadband map, and fund statewide initiatives directed at broadband planning.

DATES: Applications will be accepted from July 14, 2009 at 8 a.m. Eastern Time (ET) until August 14, 2009 at 11:59 p.m. ET.

ADDRESSES: All applications must be submitted through the online Grants.gov system no later than 11:59 p.m. ET on August 14, 2009, as more fully described in the section entitled “Request for Application Package” below. Failure to properly register and apply for State Broadband Data Program funds by the deadlines may result in forfeiture of the grant opportunity. Applications are accepted until the deadline and processed as received. Applications submitted by hand delivery, mail, email or facsimile will not be accepted.

FOR FURTHER INFORMATION CONTACT: For general inquiries regarding the State Broadband Data Program, applicants may contact Edward “Smitty” Smith, Program Director, State Broadband Data and Development Grant Program, National Telecommunications and Information Administration, U.S. Department of Commerce, 1401 Constitution Avenue, NW., Room 4898, Washington, DC 20230; by telephone at 202-482-4949 or via electronic mail at broadbandmapping@ntia.doc.gov. Information about the State Broadband Data Program can also be obtained electronically via the Internet at http://www.ntia.doc.gov/broadbandgrants.

SUPPLEMENTARY INFORMATION: Catalog of Federal Domestic Assistance (CFDA) Number: 11.558.

Additional Items in Supplementary Information:

I. Overview: Describes the statutory origin of the broadband mapping requirement under the Recovery Act, the applicability of the BDIA, the structure of the Program and the public comment process.

II. Funding Opportunity Description: Provides a more thorough description of the Program, including a description of mapping and planning priorities, and the application review process.

III. Definitions: Sets forth the key terms and other terms used in this Notice.

IV. Award Information: Describes funding availability and other award information.

V. Eligibility Information: Discusses eligibility criteria, including the 20 percent match, confidentiality requirements, and funding restrictions.

VI. Application and Submission Information: Provides information about how to apply, application materials, and the application process.

VII. Application Review Information: Establishes the scoring criteria for evaluating applications.

VIII. Anticipated Award Dates: Identifies the initial award announcement and award dates for Program awards.

IX. Award Administration Information: Provides award notice information, administrative requirements, terms and conditions, and other reporting requirements for award recipients.

X. Other Information: Sets forth guidance on funding, compliance with various laws, regulations and other such requirements.

I. Overview

A. The Recovery Act: Section 6001(l) of the Recovery Act requires the Assistant Secretary to develop and maintain a comprehensive, interactive, and searchable nationwide inventory map of existing broadband service capability and availability in the United States that depicts the geographic extent to which broadband service capability is deployed and available from a commercial or public provider throughout each State.¹ The Recovery Act requires the Assistant Secretary to make the national broadband map accessible by the public on an NTIA Web site no later than February 17, 2011.² The Recovery Act authorizes NTIA to expend up to $350 million pursuant to the BDIA and for the purposes of developing and maintaining a broadband inventory map.³ Implementation of the BDIA is useful to fulfill Congress' intent to develop a national broadband map as expressed and funded under the Recovery Act.

¹ Recovery Act section 6001(l), 123 Stat. at 516. See Section IV for the definition of “State” and other relevant definitions.

² Id.

³ Recovery Act, Title II, Div. A, 123 Stat. at 123 (to be codified at 47 U.S.C. 1301).

B. The BDIA: The BDIA is intended to improve data on the deployment and adoption of broadband service to assist in the extension of broadband technology across all regions of the United States.⁴ Section 106 of the BDIA directs the Secretary of Commerce to establish the State Broadband Data Program and to award grants to eligible entities to develop and implement statewide initiatives to identify and track the adoption and availability of broadband services within each State.⁵ In effecting this purpose, the BDIA provides several eligible uses for grant funds, including uses related to the gathering of broadband-related data at the State level and the development of statewide broadband maps.⁶

⁴ BDIA § 102, 122 Stat. at 4096.

⁵ BDIA § 106(b), 122 Stat. at 4099. The Secretary delegated his authority to meet the obligations of Section 106 of the BDIA to the Assistant Secretary for Communications and Information (Assistant Secretary) on April 9, 2009.

⁶ The BDIA authorizes the Secretary to make grants to eligible entities for the following eligible uses: (1) To develop and provide a baseline assessment of broadband deployment in each State; (2) to identify and track the areas with low levels of deployment, the rate at which residential and business users adopt broadband service and other related information technology services, and possible suppliers of such services; (3) to identify barriers to the adoption of broadband service and information technology services; (4) to identify the available speeds for broadband connection; (5) to create and facilitate by county or designated region in a State, local technology planning teams; (6) to collaborate with broadband service providers and information technology companies to encourage deployment and use; (7) to establish computer ownership and Internet access programs in unserved and areas with lower than average penetration on a national basis; (8) to collect and analyze detailed market data concerning use and demand for broadband service; (9) to facilitate information exchange regarding use and demand for broadband services between public and private sector users; and (10) to create within each State a geographic inventory map of broadband service. BDIA § 106(e), 122 Stat. at 4100-4101.

C. The State Broadband Data Program: In keeping with the Recovery Act's direction that NTIA develop and maintain a comprehensive and interactive national broadband map and the requirements of the BDIA, NTIA has established this grant program. Awardees under this Program will receive grants to fund their collection of broadband-related data as well as funding for planning programs at the State level. Awardees will use the broadband-related data that they collect to develop statewide broadband maps, which will be linked to a Department of Commerce Web page. In addition, the awardees will submit all of their collected data to NTIA for use by NTIA and the Federal Communications Commission (FCC) in developing and maintaining the national broadband map, which will be displayed on an NTIA Web page before February 17, 2011.

NTIA's decisions are based on the statutory requirements of the Recovery Act and are informed by NTIA's own expertise, the expertise of other Federal agencies, including the FCC, and public comment.

D. Public Comment: On March 10, 2009, NTIA, the FCC, and the U.S. Department of Agriculture's Rural Utilities Service (RUS) cosponsored a public meeting to initiate public outreach about the current availability of broadband service in the United States and ways in which the availability of broadband service could be expanded.⁷ The March 10th meeting was followed by the release of a Request for Information (RFI) and six days of additional public meetings and field hearings during March.⁸ The RFI requested the submission of information on a broad range of topics including topics related to broadband mapping, the Recovery Act and the BDIA. The meetings and hearings included nearly 120 panelists with representatives from consumer and public interest groups, State and local governments, tribal governments, minority and vulnerable populations, industry, academia and other institutions.

⁷ See Notice: American Recovery and Reinvestment Act of 2009 Broadband Initiatives, 74 FR 8914 (Feb. 27, 2009).

⁸ See Notice: American Recovery and Reinvestment Act of 2009 Broadband Initiatives, 74 FR 10716 (March 12, 2009). Agendas, transcripts and presentations from each meeting are available on NTIA's Web site at http://www.ntia.doc.gov/broadbandgrants/meetings.html.

In response to the RFI and the public meetings, NTIA received over 1,000 comments from institutions and individuals on the broadband initiatives funded by the Recovery Act.⁹ With regard to the issues surrounding the State Broadband Data Program and the national broadband map that NTIA is required to prepare under Section 6001(l) of the Recovery Act, NTIA received more than 200 comments, many of which played a role in formulating the structure of this Program. For further discussion and explanation of the policy decisions involved in establishing this program, see the attached Policy Justification Appendix.

⁹ Agendas, transcripts, and presentations from each meeting are available on NTIA's Web site at http://www.ntia.doc.gov/broadbandgrants/meetings.html. All public comments in Docket No. 090309298-9299-01 are on file with NTIA and may be viewed on NTIA's Web site at http://www.ntia.doc.gov/broadbandgrants/comments.cfm.

II. Funding Opportunity Description

A. Program Description: The State Broadband Data Program is a competitive, merit-based matching grant program that implements the joint purposes of the Recovery Act and the BDIA through the award of grants. This Program is designed to fund projects that gather comprehensive and accurate State-level broadband mapping data, develop State-level broadband maps, aid in the development and maintenance of a national broadband map, and fund statewide initiatives for broadband planning.

While the BDIA mandates that each State may have only a single eligible entity, each applicant will be carefully evaluated against a program standard. Any applicant that fails to meet the program standard will not receive grant funding; therefore, the efficient fulfillment of the goals of the Recovery Act and the BDIA will be advanced by the submission of a qualifying application from each State highly responsive to the review criteria contained in this Notice. In the event that a State fails to produce a grant awardee, NTIA reserves the right to perform the necessary broadband data collection.

1. Use of Collected Broadband Data by Awardees. Awardees may use the data collected under this Program for any lawful use consistent with the requirements of this Program, including the confidentiality restrictions contained herein, and existing agreements between the awardee, the State, and broadband service providers. It is expected, however, that, in addition to providing all collected data to NTIA, applicants will use the data to develop and maintain a statewide broadband map that will be separate and distinct from the national broadband map and will be tailored to suit the needs of the particular State. Though it will be separate and distinct from the national broadband map, applicants must provide NTIA with a hypertext link to the State maps for display on a Web page on the Department of Commerce Web site.

2. Use of Collected Broadband Data by NTIA and the FCC. The data collected under this Program will be used for public purposes and also utilized by governmental entities. For example, because of its value in identifying appropriate areas for broadband investment and economic stimulus, the collected data will inform NTIA's grant-making decisions under the Broadband Technology Opportunities Program (BTOP). The national broadband map that will be developed and maintained using these and other data will publicly display the following information about broadband service available from a public or private provider:

(a) Geographic areas in which broadband service is available;

(b) The technologies used to provide broadband service in such areas;

(c) The spectrum used for the provision of wireless broadband service in such areas;

(d) The speeds at which broadband service is available in such areas; and

(e) Broadband service availability at public schools, libraries, hospitals, colleges and universities and all public buildings owned or leased by agencies or instrumentalities of the States or municipalities or other subdivisions of the States and their respective agencies or instrumentalities.

The national map will also be searchable by address. To the greatest extent possible, at every address, the type and speed of broadband service will be provided. For providers of wireless broadband service, the spectrum used for the provision of service will be provided. If the applicable broadband service provider so chooses, the provider's identity will also be available, otherwise the map will simply display that an anonymous provider utilizing a particular type of technology is providing service to a location. Furthermore, to the extent possible, the service areas of individual providers will be aggregated with other providers of the same technology type.

Though collected under this Program, data concerning the Average Revenue Per User (ARPU) and data regarding the type, technical specification, or location of infrastructure owned, leased, or used by a broadband service provider will not be displayed on the public national broadband map.¹⁰ The above paragraphs notwithstanding, if provider consent is granted, NTIA may display the above provider-specific information on the national broadband map.

¹⁰ However, NTIA is considering methods for displaying some pricing data that will be collected through other avenues.

In addition to the above broadband-related information, the national broadband map may display a wide range of additional, economic, and demographic data derived from other sources. Such data, however, are not the subject of this Notice.

B. Program Priorities:

1. Broadband Mapping. With respect to this Program, NTIA's highest priority is the development and maintenance of a national broadband map. Therefore, NTIA intends to fund high-quality projects that are designed to gather data at the address-level on broadband availability, technology, speed, infrastructure, ARPU, and, in the case of wireless broadband, the spectrum used, across the project areas. NTIA has determined that the BDIA's eligible uses regarding State-specific data collection and geographic inventory broadband mapping activities are encompassed within the broadband mapping grant guidelines described herein. Successful projects must propose: (a) To provide comprehensive and verifiable data meeting the Program standards as published in this Notice, such data will be accessible and clearly presented to NTIA, the public, and State and local governments without unduly compromising data or the protection of Confidential Information as defined in this notice; (b) a workable and sustainable framework for repeated updating of data; (c) a plan for collaboration with State-level agencies, local authorities, and other constituencies, as well as a proposal for planning projects designed to identify and address broadband challenges in the State; (d) feasible projects as demonstrated by a reasonable and cost-efficient budget, and a showing of applicant capacity, knowledge and experience; and (e) a timeline for expedient data delivery.

2. Broadband Planning. Only applications that meet the broadband mapping purposes set forth in the above paragraph will be considered for planning funding, and mapping proposals do not need to include a planning component. However, applicants may propose projects or award uses that relate to an enumerated BDIA purpose described in Section I of this Notice that addresses a need in their State. Any proposed use of funds that is not directed towards the collection of data for, or the development and maintenance of, the State or national broadband map will be considered a planning use. There is a presumption that the BDIA purposes involving the identification of barriers to the adoption of broadband service and information technology services, the creation and facilitation of local technology planning teams, and the establishment of computer ownership and Internet access programs are not mapping-related and therefore are only eligible for broadband planning funding. However, applicants may demonstrate in their applications how a use under such categories will inform the collection of broadband data or development of State and national broadband maps. Broadband planning funds will be limited, and broadband planning-related uses under any grant application budget may not exceed $500,000.

C. Review and Selection Processes:

The review process involves the three stages outlined below. NTIA anticipates that the processing and selection of applications for funding will require one (1) month from the date of submission.

1. Eligibility. Upon receipt, NTIA will screen applications for factors determining eligibility as described in the section entitled “Eligibility Information” below. In the case that NTIA determines that an application fails to address adequately any eligibility criteria before the application deadline, NTIA may alert the applicant of such deficiency and the applicant may revise such application before the application deadline to comply with Program requirements. However, NTIA has no affirmative obligation to notify applicants of a deficient application and will not be held responsible for any deficiencies that are not remedied in a timely manner.

2. Technical Review. Each eligible application will be reviewed by a panel of at least three peer/expert reviewers who have demonstrated expertise in both the programmatic and technological aspects of the Program. The peer/expert review panel members will individually evaluate applications according to the review criteria provided in Section VII of this Notice and provide ratings to the Program staff. Each peer/expert reviewer will be required to sign and submit a nondisclosure and confidentiality form to prevent the dissemination of Confidential Information, and to prevent financial and other conflicts of interest.

3. Programmatic Review and Revision Process. Following the Technical Review, each eligible application will be reviewed by Program staff for policy determinations and conformity with programmatic goals. Program staff will analyze applications considered for award to assess: (a) Whether a proposed project meets the Program's funding constraints; (b) the eligibility of costs and matching funds included in an application's budget; and (c) the extent to which an application complements or duplicates projects previously funded or under consideration by NTIA or other Federal programs. Following this programmatic review, Program staff may contact an eligible applicant to discuss any recommended adjustments or revisions to their applications necessary to better meet Program goals. Revisions are intended to resolve any differences that exist between the applicant's original request and what the State Broadband Data Program proposes to fund and, if necessary, to clarify items in the application. Staff may also request additional corroborating documentation from applicants. These documents will be reviewed by Program staff with the support of external engineering, design, information technology, geographic information systems, broadband, and other subject-matter experts to evaluate the consistency of the applications with the supporting documents and ensure that applications merit State Broadband Data Program awards.

Upon the conclusion of the programmatic review and revision process, each application will continue through the selection process. The Program Director will prepare and present a slate of recommended grant awards to the Associate Administrator for review and approval. The Program Director's recommendations and the Associate Administrator's review and approval of those recommendations will take into account the selection factors listed below.

Upon approval by the Associate Administrator, the Program Director's recommendations will be presented to the Selecting Official, the Assistant Secretary. The Assistant Secretary selects the applications for grant award, taking into consideration the Program Director's recommendations and the degree to which the slate of applications, taken as a whole, satisfies the selection factors described below and the Program's stated purposes as set forth in the section entitled “Program Description.”

The Selecting Official will issue awards after considering the following selection factors:

(a) The evaluations of the peer/expert reviewers;

(b) The analysis of Program staff;

(c) The degree to which the proposed grants meet the Program's purpose as described in this Notice;

(d) Avoidance of redundancy and conflicts with the initiatives of other Federal agencies; and

(e) The availability of funds.

III. Definitions

For the purposes of this Program, NTIA has adopted the following definitions for the State Broadband Data Program, many of which were developed for BTOP, pursuant to Recovery Act Section 6001(a). Applicants for these grants should refer to the following definitions when completing their applications:

Applicant. An entity requesting approval for an award under this Notice.

ARPU. Average Revenue Per User. Average Revenue Per User for this Program is as defined in the Technical Appendix.

Assistant Secretary. The Assistant Secretary for Communications and Information, National Telecommunications and Information Administration, Department of Commerce, or the Assistant Secretary's designee.

Associate Administrator. The Associate Administrator of the National Telecommunications and Information Administration, Department of Commerce/the Director of the Office of Telecommunications and Information Applications, or the Associate Administrator's designee.

Available. Broadband service is “available” to an end user at an address if a broadband service provider does, or could, within a typical service interval (7 to 10 business days) without an extraordinary commitment of resources, provision two-way data transmission to and from the Internet with advertised speeds of at least 768 kilobits per second (kbps) downstream and at least 200 kbps upstream to the end user at the address.

Award. A grant made under this Notice by NTIA.

Awardee. A recipient of an Award under this Notice; a grantee.

Broadband. Data transmission technology that provides two-way data transmission to and from the Internet with advertised speeds of at least 768 kilobits per second (kbps) downstream and at least 200 kbps upstream to end users, or providing sufficient capacity in a middle mile project to support the provision of broadband service to end users within the project area.

Broadband Service. The provision of broadband on either a commercial or non-commercial basis.

BTOP. The Broadband Technology Opportunities Program, administered by NTIA, under Section 6001 of the Recovery Act.

Community Anchor Institutions. Schools, libraries, medical and healthcare providers, public safety entities, community colleges and other institutions of higher education, and other community support organizations and entities.

Confidential Information. Any information, including trade secrets, or commercial or financial information, submitted under this Program that: (1) Identifies the type and technical specification of infrastructure owned, leased, or used by a specific broadband service provider; (2) identifies the average revenue per user (ARPU) for a specific broadband service provider; or (3) explicitly identifies a broadband service provider in relation to its specific Service Area or at a specific Service Location. For example, a broadband service provider's specific service “footprint”, as identified with such provider, will be considered Confidential Information for the purposes of this Program and will either (a) be aggregated with other available providers of the same technology type before being published in the national broadband map, in which case the map would only display the aggregated list of providers that have consented to have their names displayed for such service area; or (b) in the absence of other providers of the same technology type with which a provider's specific service “footprint” can be aggregated, be displayed without providing the provider's identity, unless the provider gives its consent. NTIA and the FCC may otherwise aggregate, combine or mask broadband service provider data, and take other steps so as to make such data suitable for public release.

Notwithstanding the foregoing, Confidential Information, as defined herein and as provided as part of a project funded under this Program, will not be made publicly available, pursuant to the limitations set forth in the BDIA, except as required by applicable law or judicial or administrative action or proceeding, including the Freedom of Information Act requirements.¹¹

¹¹ BDIA § 106(h), 122 Stat. at 4101.

Data. Statistics, figures, descriptions, maps, geographic coordinates, or other such information relating to the provision of broadband services.

End User. A residential or business party, institution or State or local government entity, including a Community Anchor Institution, that may use broadband service for its own purposes and that does not resell such service to other entities or incorporate such service into retail Internet-access services. Internet Service Providers (ISPs) are not “end users” for this purpose.

In-Kind Contribution. Qualifying non-cash donations, including third-party in-kind contributions, of property, goods or services, which benefit a Federally assisted project, and which may count toward satisfying the non-Federal matching requirement. See the section entitled “Eligibility Information” below for a full discussion of the Program's treatment of in-kind contributions and the Federal structure for determining when a contribution qualifies.

Pre-Award Costs. Reasonable costs incurred after the enactment of the Recovery Act (February 17, 2009) but prior to the effective date of the award directly pursuant to and in anticipation of the award where such costs are necessary to comply with the proposed delivery schedule or period of performance. Such costs are allowable only to the extent that they would have been allowable if incurred after the date of the award, and only with the written approval of NTIA.

Recovery Act. The American Recovery and Reinvestment Act of 2009, Public Law 111-5, 123 Stat. 115 (2009).

Rural Area. Any area, as confirmed by the latest decennial census of the Bureau of the Census, which is not located within: (i) A city, town, or incorporated area that has a population of greater than 20,000 inhabitants; or (ii) an urbanized area contiguous and adjacent to a city or town that has a population of greater than 50,000 inhabitants. For purposes of the definition of rural area, an urbanized area means a densely populated territory as defined in the latest decennial census of the U.S. Census Bureau.

Secretary. The Secretary of Commerce.

Service Area. The entire area within which an existing service provider offers broadband service.

Service Location. The specific geographic point or location at which a service provider offers broadband service, such as a specific residence or business.

State. A State, the District of Columbia, or a territory or possession of the United States. For the purposes of the designation of an eligible entity, the term “State” will be interpreted to mean the Governor or in the absence of a designation by the Governor, the Legislature, officer, or executive agency within the State that the Governor or State Constitution authorizes to take binding action for the State. In the case State, the District of Columbia, or a territory or possession of the United States, the terms Governor, Legislature or State Constitution shall mean their respective functional equivalents.

Substantially Complete Data Set. A data set is substantially complete when it contains data on broadband services provided by (a) 70 percent of broadband service providers in a State; (b) to 80 percent of households in a State; (c) to 90 percent of households in rural areas of the State; and (d) to 95 percent of public Community Anchor Institutions.

Underserved Area. An area composed of one or more contiguous census blocks meeting certain criteria that measure the availability of broadband service and the level of advertised broadband speeds.¹² Specifically, an area is underserved if at least one of the following factors is met, though the presumption will be that more than one factor is present: (i) No more than 50 percent of households in the service area have access to facilities-based terrestrial broadband service at greater than the minimum broadband transmission speed (set forth in the definition of broadband above); (ii) no fixed or mobile broadband service provider advertises broadband transmission speeds of at least three megabits per second (“mbps”) downstream in the area; or (iii) the rate of broadband subscribership for the area is 40 percent of households or less.¹³ A household has access to broadband service if the household can readily subscribe to that service upon request.

¹² Census blocks are the smallest geographic areas for which the U.S. Bureau of the Census collects and tabulates decennial census data. Census blocks are formed by streets, roads, railroads, streams and other bodies of water, other visible physical and cultural features, and the legal boundaries shown on Census Bureau maps. Census data at this level serve as a valuable source for small-area geographic studies. See the Census Bureau's Web site at http://www.census.gov for more detailed information on its data gathering methodology.

¹³ These criteria conform to the two distinct components of the BIP and BTOP categories of eligible projects—Last Mile and Middle Mile.

Unserved Area. An area composed of one or more contiguous census blocks where at least 90 percent of households in the service area lack access to facilities-based terrestrial broadband service, either fixed or mobile, at the minimum broadband transmission speed (set forth in the definition of broadband above). A household has access to broadband service if the household can readily subscribe to that service upon request.

IV. Award Information

A. Funding Availability and Estimated Funding: The Recovery Act authorizes NTIA to expend up to $350 million for the purposes of developing and maintaining a broadband inventory map and pursuant to the BDIA.¹⁴ NTIA expects grant awards to range between $1.9 million and $3.8 million per State for the mapping portion of each project, and up to $500,000 for the planning portion of each project. The exact size of any award will depend on the specifics of each project, the quality of each project as determined in NTIA's review, as well as demographic and geographic features unique to each State. Project budgets will be carefully reviewed to ensure that they are appropriate given the specifics of the project and the project State. Fiscally irresponsible budgets will be detrimental to an application. Any funds not expended under this Program will be reallocated to BTOP purposes.

¹⁴ Recovery Act, Title II, Div. A. 123 Stat. at 128.

Publication of this Notice does not obligate NTIA to award any specific project or obligate all or any parts of any available funds.

B. Award Period: All awards under this Program must be made no later than September 30, 2010. The period of performance will be five (5) years from the date of award.

C. Type of Funding Instrument: Grant.

V. Eligibility Information

A. Eligible Applicants: Pursuant to the BDIA, eligible recipients of State Broadband Data Program grants are:

(a) Entities that are either (i) an agency or instrumentality of a State, or a municipality or other subdivision (or agency or instrumentality of a municipality or other subdivision) of a State; (ii) a nonprofit organization that is described in Section 501(c)(3) of the Internal Revenue Code of 1986 and that is exempt from taxation under Section 501(a) of such Code; or (iii) an independent agency or commission in which an office of a State is a member on behalf of the State; and

(b) The single eligible entity in the State that has been designated by the State to receive a grant under this section.¹⁵

¹⁵ BDIA § 106(i)(2)(B), 122 Stat. at 4102.

Matching Funds and Cost Sharing Requirements: Awardees under this Program will be required to provide and document at least 20 percent non-Federal matching funds toward the total eligible project cost.¹⁶ Applicants must document their capacity to provide matching funds. Matching funds may be in the form of either cash or in-kind contributions consistent with 15 CFR 14.23, 24.3, and 24.24. Certain pre-award costs may be credited towards an applicant's matching funds requirements. As provided in 48 U.S.C. 1469a, the requirement for local matching funds under $200,000 (including in-kind contributions) is waived for the Territorial governments in Guam, American Samoa, the U.S. Virgin Islands, and the Commonwealth of the Northern Mariana Islands. Grant funds under this Program will be released in direct proportion to the documented expenditure of matching funds.

¹⁶ BDIA § 106(c)(2), 122 Stat. at 4099. Generally, Federal funds may not be used as matching funds except as provided by Federal statute. See “Uniform Administrative Requirements for Grants and Agreements with Institutions of Higher Education, Hospitals, Other Non-profit, and Commercial Organizations,” 15 CFR 14.23(a)(5); see also “Uniform Administrative Requirements for Grants and Cooperative Agreements to State and Local Governments,” 15 CFR 24.24(b)(1).

In-Kind Contributions. In-kind contributions, which include third-party in-kind contributions, are non-cash donations of property, goods or services, which benefit a Federally assisted project, and which may count toward satisfying the non-Federal matching requirement when they meet certain criteria.¹⁷ The rules governing allowable in-kind contributions are very detailed and encompass a wide range of properties and services. NTIA encourages grant applicants to consider thoroughly potential sources of in-kind contributions which, depending on the particular property or service and the cost principles applicable to the applicants' organization type, could include: employee or volunteer services; equipment; supplies; indirect costs;¹⁸ computer hardware and software; use of facilities; expenditures for existing programs presented as part of the project proposal under this Program. In addition, applicants may propose as in-kind contributions the ascertainable fair market value of data previously collected and related to the BDIA-eligible uses under this Program. If data previously collected is to be claimed as an in-kind contribution, applicants must provide a basis for estimating fair market value, including but not limited to the documented costs incurred for data collection. NTIA reserves the right at its discretion to provide in-kind credit for an amount different than that claimed by the applicant.

¹⁷ 15 CFR 14.23, 24.3, 24.22, 24.24. See also OMB Circular A-87, “Cost Principles for State, Local and Indian Tribal Governments” (Rev. May 10, 2004), OMB Circular A-122, Cost Principles for Non-Profit Organizations (Rev. May 10, 2004), and 48 CFR pt. 31, “Contract Cost Principles and Procedures.”

¹⁸ Reasonable indirect costs may be included as part of cost sharing or matching only with the prior approval of NTIA. The amount of indirect charges allocated to the budget is based on an applicant's indirect cost rate. An applicant may already have an indirect cost rate negotiated with a Federal agency, in which case, that rate may be applied to the applicant's grant if it is current. If it is not current, the applicant will need to update it. If an applicant does not have a negotiated rate, but would like to include indirect costs, the applicant will need to establish a rate with the Department of Commerce.

B. Confidentiality Requirements: The BDIA requires that to be eligible to receive a grant under this Program, entities must agree to treat any matter that is a trade secret, commercial or financial information, or privileged or confidential, as a record not subject to public disclosure except as otherwise mutually agreed to by the broadband service provider and the entity.¹⁹ As a condition of grant funding under this Program, awardees may not agree to a more restrictive definition of Confidential Information than the definition adopted by this Program.

¹⁹ BDIA §§ 106(c)(3) and 106(h)(2), 122 Stat. at 4101-2 (This requirement applies only to information submitted by the FCC or a broadband provider to carry out the provisions of the BDIA and shall not otherwise limit or affect the rules governing public disclosure of information collected by any Federal or State entity under any other Federal or State law or regulation).

Nondisclosure Agreements. As a measure to protect the confidential or proprietary nature of the information received from broadband service providers and other organizations during the data collection phase, awardees may execute nondisclosure agreements (consistent with applicable law) that require the awardees to treat any matter that is a trade secret, commercial or financial information, or privileged or confidential, as a record not subject to public disclosure except where mutually agreed upon by the information provider and the awardee, provided, however, that any such nondisclosure restriction (a) will not restrict the providing of all data collected under this Program to NTIA, nor (b) restrict NTIA's use of such data as contemplated under this Notice (including sharing such data with the FCC or other Federal agencies).

To the extent required by law, NTIA agrees that it will not publicly disclose any Confidential Information, as defined herein, provided to it by an applicant or awardee under this Program. Providing Confidential Information to the FCC, or other Federal agencies as necessary, shall not constitute public disclosure. In any disclosure to the FCC or other Federal agencies, NTIA will request that such agency make no further disclosure of the Confidential Information except as required by applicable law or judicial or administrative action or proceeding.²⁰

²⁰ The provisions of this section notwithstanding, all information submitted by an applicant or awardee to NTIA for the purposes of this Program will be subject to Freedom of Information Act requirements under 5 U.S.C. 552.

C. Information Provided: In order to be eligible for a grant under this Program, each applicant must agree to provide NTIA with broadband data, of the type and in the format provided in the Technical Appendix, from all commercial or public providers of broadband service in their respective States, including, but not limited to, commercial or public providers of broadband service to Indian tribes (as defined in Section 4 of the Indian Self-Determination and Education Assistance Act ²¹), Native Hawaiian organizations, Community Anchor Institutions or agencies or instrumentalities of the States, or municipalities or other subdivisions of the States and their respective agencies or instrumentalities.

²¹ 25 U.S.C. 450(b).

In no case, however, are applicants required to propose collecting data on broadband service provided by the Federal government or any agencies or instrumentalities of the Federal government or broadband service provided on property owned or leased by the Federal government or any agencies, or instrumentalities of the Federal government.

Failure to agree to collect the required data will render an applicant ineligible for funding under this Program.

D. Participation Limit: This is a new program and no activities have been funded under it as of the date of this Notice. BDIA stipulates that no State-designated entity may receive a grant under this Program to fund activities described above if that entity, or another entity designated by that State, obtained prior grant awards under this section to fund the same activities in that State in each of the previous four (4) consecutive years.²² Because the Recovery Act requires the obligation of all funds by September 30, 2010, NTIA does not anticipate any situations where a violation of this provision could occur.

²² BDIA § 106(f), 122 Stat. at 4101.

E. Funding Restrictions:

1. Eligible Costs. Grant funds must be used only to pay for eligible costs. Under this Notice, eligible costs are governed by the Federal cost principles identified in the applicable OMB circulars and in the Program's authorizing legislation.²³ In addition, costs must be reasonable, allocable, necessary to the project, and comply with the funding statute requirements. Neither mapping nor planning projects may include any construction costs.

²³ The government has established a set of Federal principles for determining eligible or allowable costs. Allowability of costs will be determined in accordance with the cost principles applicable to the entity incurring the costs. Thus, allowability of costs incurred by State, local or Federally-recognized Indian tribal governments is determined in accordance with the provisions of OMB Circular A-87, “Cost Principles for State, Local and Indian Tribal Governments.” The allowability of costs incurred by non-profit organizations is determined in accordance with the provisions of OMB Circular A-122, “Cost Principles for Non-Profit Organizations.” The allowability of costs incurred by institutions of higher education is determined in accordance with the provisions of OMB Circular A-21, “Cost Principles for Educational Institutions.” The allowability of costs incurred by hospitals is determined in accordance with the provisions of Appendix E of 45 CFR pt. 74, “Principles for Determining Costs Applicable to Research and Development under Grants and Contracts with Hospitals.” The allowability of costs incurred by commercial organizations and those non-profit organizations listed in Attachment C to Circular A-122 is determined in accordance with the provisions of the Federal Acquisition Regulation (FAR) at 48 CFR pt. 31. See 15 CFR 14.27, 24.22 (governing the Department of Commerce's implementation of OMB requirements).

2. Recovery Act-Specific Restrictions. The Recovery Act imposes an additional limitation on the use of funds expended or obligated from appropriations made pursuant to its provisions. Specifically, for purposes of this Notice, none of the funds appropriated or otherwise made available under the Recovery Act may be used by any State or local government, or any private entity, for any casino or other gambling establishment, aquarium, zoo, golf course, or swimming pool.²⁴

²⁴ Recovery Act § 1604, 123 Stat. at 303.

VI. Application and Submission Information

A. Address To Request Application Package: To ensure a successful submission, applicants must apply for State Broadband Data Program funding through the online Grants.gov system through the Authorized Organization Representative (AOR). Grants.gov, an e-Government initiative, is a “storefront” that provides a unified process for all seekers of Federal grants to find funding opportunities and apply for funding. If applicants have previously used Grants.gov, the existing account may be used for the State Broadband Data Program. States that have not previously submitted an application through Grants.gov are strongly encouraged to initiate the registration process as soon as possible. Instructions are available on the Grants.gov Web site (http://www.grants.gov). Application forms and instructions are also available at Grants.gov. To access these materials, go to http://www.grants.gov, select “Apply for Grants,” and then select “Download Application Package.” Enter the CFDA and/or the funding opportunity number located on the cover of this announcement. Select “Download Application Package,” and then follow the prompts. To download the instructions, go to “Download Application Package” and select “Instructions.” Applicants should visit Grants.gov prior to filing their applications so that they fully understand the process and requirements. Failure to properly register and apply for State Broadband Data Program funds by the deadlines may result in forfeiture of the grant opportunity. Applications are accepted until the deadline and processed as received. Applications submitted by hand delivery, mail, e-mail or facsimile will not be accepted.

B. Registration:

1. DUNS Number.—All applicants must supply a Dun and Bradstreet Data Universal Numbering System (DUNS) number. Applicants can receive a DUNS number at no cost by calling the dedicated toll-free DUNS number request line at 1-866-705-5711 or via the Internet at http://www.dunandbradstreet.com.

2. Central Contractor Registration (CCR). All applicants must provide a CCR (CAGE) number evidencing current registration in the Central Contractor Registration (CCR) database. If the applicant does not have a current CCR (CAGE) number, the applicant must register in the CCR system available at: http://www.ccr.gov/StartRegistration.aspx.

C. Content and Form of Application Submitted Through Grants.gov: The following is a list of required application forms:

• Standard Form 424, Program Abstract/Program Narrative;

• Standard Form 424, Application for Federal Assistance;

• Standard Form 424A, Budget Information—Non-Construction Programs;

• Standard Form 424B, Assurances—Non-Construction Programs;

• Standard Form LLL, Disclosure of Lobbying Activities;

• CD-511 Certification Regarding Lobbying; and

• Letter of State Designation.

Program Narrative. The applicant must complete a Program Narrative including responses to the five review criteria listed in Section VII (A) and listed below.

The Narrative should begin with an introduction that serves as an Executive Summary of the project. It should be a brief, straightforward statement of what the application proposes to accomplish.

The Narrative should also include a description of all unserved and underserved areas in their State as defined herein, to the extent they are known, and a prioritization for the allocation of grant funds within that State for projects in or affecting the State.²⁵

²⁵ Applicants may illustrate such known unserved areas through submission of a map.

The Narrative should then address the five review criteria in separate sections of the Narrative. Applicants should address the five criteria in the following order and each section should be labeled with the name of the criterion being discussed to help the reviewers who evaluate the application. Any exhibits, maps, timelines, or spreadsheets should be placed within the appropriate section of the narrative.

1. Data:

(a) Data Gathering. Applicants must provide a comprehensive description of how the applicant plans to obtain all data required under the Technical Appendix from commercial or public providers, as applicable (such description should identify general or specific methods, or legal authorities upon which applicants will rely to obtain the required data). Applicants should refer to specific data elements in the Technical Appendix when appropriate as part of their narrative.

(b) Accuracy and Verification. Applicants must provide a description of what methods the applicant intends to employ to verify data accuracy.

(c) Accessibility. Applicants must provide a description of how the State's broadband data will be publicly accessible, clearly presented, and easily understood by the public, government and the research community. Applicants must also describe the applicant's proposed State-level map.

(d) Security and Confidentiality. Applicants must provide a description of what methods the applicant intends to employ to ensure both transparency of process and protection of collected data, including Confidential Information as defined herein.

2. Project Feasibility:

(a) Applicant Capabilities. Applicants must provide a detailed budget narrative providing detailed description of proposed project costs (including a detailed description of any proposed expenditures for the purchase of computer hardware, software, other information systems or the compensation of information technology personnel that will be used to collect and store all required data) and describing any proposed sources of in-kind match. The budget narrative must provide sufficient explanation of each budget category in order to establish the need for the funds in each category, and the basis for figures used. The budget narrative must be accompanied by a spreadsheet supporting how the budget request was calculated.

Applicants that include requests for Broadband Planning activities within their application must provide a separate budget narrative and spreadsheet for the planning portion of their request.

All applicants must demonstrate that they have the ability to secure the funding necessary to meet the required 20 percent non-Federal matching contribution.

(b) Applicant Capacity, Knowledge and Experience. Applicants must provide a description of applicant qualifications, including knowledge and experience of the applicant and the associated project personnel with conducting projects of similar scope and scale, including dealing with broadband or telecommunications technology, overseeing the projects that collect broadband or telecommunications-related data, or Geographic Information System (GIS) data.

3. Expedient Data Delivery:

Applicants must provide a timeline for major project goals, including anticipated dates of data delivery. This timeline should be ambitious and designed to facilitate the delivery of all data required by the Technical Appendix. NTIA will have a preference for the provision of a substantially complete set of availability data by November 1, 2009. Applicants that cannot provide a substantially complete set of availability data by November 1, 2009, may propose to provide an alternative data set by that date. Applicants must demonstrate that they have the ability to complete the project requirements within the proposed timeline, including the requirements to provide a substantially complete set of all broadband mapping data on or before February 1, 2010 and to complete such data collection by March 1, 2010. All data provided in the first collection should be accurate as of June 30, 2009.

4. Process for Repeated Data Updating:

Applicants must provide a description of what methods the applicant intends to use to provide for repeated updating of data on at least a semi-annual basis continuing for at least five (5) years after the date of the initial collection.²⁶

²⁶ Broadband mapping data should be updated at least on March 1 of each year (by submitting data as of December 31 of the previous year) and at least September 1 of each year (by submitting data as of June 30 of that year). Because the initial data collection is due on February 1, 2010, the next update will be due on September 1, 2010 but should include data accurate as of both December 31, 2009 and June 30, 2010, after which, the collections will follow the specified schedule. For the purposes of this program, an update will be deemed to be a verification of existing data and a collection of any additional data reflecting the expansion or contraction of broadband availability since the previous data collection or update.

5. Planning and Collaboration:

Applicants must provide a description of how the applicant intends to collaborate with State-level agencies and local authorities in carrying out the mapping effort. Applicants that include a planning component must provide a description and justification on how well the proposed planning process will address one or more of the projects identified earlier in the BDIA.

The narrative should be no longer than forty (40) pages in length, single spaced in 12 point Times New Roman font (or equivalent).

Letter of State Designation. This letter, signed by the Governor or equivalent chief executive of the State, or his duly authorized designee, affirms that the applicant is the single eligible entity in the State that has been designated by the State to receive a grant under this Program.

D. Submission Dates and Times: All applications must be submitted between July 14, 2009 at 8 a.m. ET and 11:59 p.m. ET on August 14, 2009. The electronic application system at Grants.gov will provide a date and time stamped confirmation number that will serve as proof of submission.

E. Material Representations: The application, including certifications, and all forms submitted as part of the application will be treated as a material representation of fact upon which NTIA will rely in awarding grants.

F. Material Revisions: No material revision will be permitted for any applicant after the submission deadline.

VII. Application Review Information

A. Evaluation Criteria: NTIA will evaluate applications for Mapping Grants on the basis of the following criteria. The relative weight of each criterion is identified in parenthesis.

1. Data (30%)—All applicants will be evaluated based on the data they propose to provide to NTIA. As provided above in the section entitled “Eligibility Information”, each applicant must agree to provide NTIA with broadband data, of the type and in the format provided in the Technical Appendix, from all commercial or public providers of broadband service in their respective States, including, but not limited to, commercial or public providers of broadband service to Indian tribes (as defined in Section 4 of the Indian Self-Determination and Education Assistance Act), Native Hawaiian organizations, Community Anchor Institutions or agencies or instrumentalities of the States, or municipalities or other subdivisions of the States and their respective agencies or instrumentalities. Failure to agree to collect such data will render an applicant ineligible for funding under this Program. In no case, however, are applicants required to propose collecting data on broadband service provided by the Federal government or any agencies or instrumentalities of the Federal government or broadband service provided on property owned or leased by the Federal government or any agencies, or instrumentalities of the Federal government.

Reviewers will consider the following factors in scoring this criterion:

(a) Accuracy and Verification. Data accuracy is extremely important and, while NTIA recognizes that 100 percent accuracy is not possible, reviewers will carefully consider an applicant's proposed methods for verifying data.²⁷ Also, proposed data collection methods that do not provide more than one way to determine the accuracy of availability data at any given location will not receive high scores.

²⁷ For example, a project should propose to collect availability data by address, as required by the Technical Appendix, and should cross-check that data for accuracy by using at least one other metric (e.g., the location and capability of local infrastructure and whether such infrastructure could realistically serve a supposed service address, on-the-ground verification or telephone survey. Each method should be used to check a statistically significant sample of all addresses, and a statistically significant sample of rural addresses).

(b) Accessibility. Applicants will be evaluated based on how the data are accessible to, clearly presented to, and easily understood by the public, including members of the research community, and local and State government, excluding any data considered to be Confidential Information, as defined in this Notice.

(c) Security and Confidentiality. Some data collected under the Program may be considered highly sensitive or confidential. Therefore, applicants must demonstrate and will be evaluated based on how well the applicant proposes to protect collected data, including Confidential Information as defined herein, while fulfilling the other criteria provided in this section.

2. Project Feasibility (30%)—

(a) Budget. This criterion evaluates whether the applicant presents a budget that is both reasonable and cost efficient, considering the full nature and scope of the project. Reviewers will also consider whether the applicant has demonstrated ability to secure the funding necessary to meet the required 20 percent non-Federal matching contribution.

(b) Applicant Capacity, Knowledge, and Experience. Reviewers also will assess whether the applicant possesses the necessary qualifications to complete the proposed project within Program standards. In performing this assessment reviewers will consider the capacity and relevant subject matter specific knowledge and experience of the applicant and the associated project personnel with conducting projects of similar scope and scale. Reviewers will assess the qualifications and past experience of the project leaders and/or partners in dealing with broadband or telecommunications technology and in designing, implementing, and effectively managing and overseeing the projects that collect broadband or telecommunications-related data, and utilize and manage Geographic Information System (GIS) data.

3. Expedient Data Delivery (20%)—Applicants will be reviewed based on the timeline on which they project delivery of the initial submission of a substantially complete set of broadband mapping data. This timeline should be ambitious and designed to facilitate the delivery of all data required by the Technical Appendix. NTIA will have a preference for the provision of a substantially complete set of availability data by November 1, 2009. Applicants that cannot provide a substantially complete set of availability data by November 1, 2009, may propose to provide an alternative data set by that date. Applicants must demonstrate that they have the ability to complete the project requirements within the proposed timeline, including the requirements to provide a substantially complete set of all broadband mapping data on or before February 1, 2010 and to and to complete such data collection by March 1, 2010. All data provided in the first collection should be accurate as of June 30, 2009.

4. Process for Repeated Data Updating (10%)—The broadband landscape is rapidly changing, and both the State broadband maps and national broadband map must be able to reflect these changes. All applicants will be evaluated based on their ability to update the data at least semi-annually and on a continuing basis. Because the initial data collection is due on February 1, 2010, the next update will be due on September 1, 2010 but will collect data as of both December 31, 2009 and June 30, 2010. For all subsequent data updates, data should be updated at least on March 1 of each year (by submitting data as of December 31 of the previous year) and at least September 1 of each year (by submitting data as of June 30 of that year), so as to coincide with the Federal Communications Commission's Form 477 data collections. Applicants are expected to propose to update data for at least five (5) years from the date of award. Applicants are encouraged to consider methods of automated or direct-from-provider data input, while also considering Data Accuracy and Verification needs.

5. Planning and Collaboration (10%)—

(a) Collaboration. Collaboration with State-level agencies, local authorities, businesses and non-profit organizations will be a critical component of any successful data collection or mapping effort. Reviewers will carefully consider the transparency and inclusiveness of the process used to plan and execute data collection and State-level broadband mapping. Reviewers will also examine the existing relationships and proposed collaborations with necessary parties, including broadband service providers, information technology companies, mapping companies, State and local governments, geographic information agencies and councils, Community Anchor Institutions, consumer and public interest groups, Indian tribes (as defined in Section 4 of the Indian Self-Determination and Education Assistance Act), Native Hawaiian organizations, minority and vulnerable populations, industry, and other such parties and institutions.

If applicable, any applications that do not include the collection of data from Indian tribes (as defined in Section 4 of the Indian Self-Determination and Education Assistance Act), tribal lands, or Native Hawaiian organizations will not be eligible for grants.

(b) Planning. In addition to inclusiveness and collaboration, proposals including planning components will be evaluated based on how well the proposed planning process will identify service availability and gaps, analyze problems and opportunities related to broadband deployment, and determine priorities as well as resolve conflicting priorities. Planning proposals must present the following: (1) The BDIA-related purpose as listed footnote 6; (2) the problem(s) to be addressed; (3) the proposed solution; (4) the anticipated outcomes of the project; and (5) the cost of such proposal in light of the previous factors.

VIII. Anticipated Award Dates

NTIA will announce the awards starting on or about September 15, 2009. NTIA will make award documents available to successful applicants within thirty (30) calendar days of the award announcement. NTIA expects compliance with all applicable documentation requirements from successful applicants within sixty (60) calendar days of award announcement.

IX. Award Administration Information

A. Award Notices: Applicants will be notified by the Department of Commerce's Grants Officer if their applications are selected for an award. If the application is selected for funding, the Department of Commerce's Grants Officer will issue the grant award (Form CD-450), which is the authorizing financial assistance award document. By signing the Form CD-450, the awardee agrees to comply with all award provisions. NTIA will provide the Form CD-450 by mail or overnight delivery to the appropriate business office of the recipient's organization. The awardee must sign and return the Form CD-450 without modification within thirty (30) calendar days of receipt.

If an applicant is awarded funding, neither the Department of Commerce nor NTIA is under any obligation to provide any additional future funding in connection with that award or to make any future award(s). Amendment or renewal of an award to increase funding or to extend the period of performance is at the discretion of the Department of Commerce and of NTIA.

B. Award Terms and Conditions:

1. Scope. Awardees, including all contractors and subcontractors, are required to comply with the obligations set forth in the Recovery Act and the requirements established herein. Any obligation that applies to the awardee shall extend for the life of the Federally-funded facilities.

2. Access to Records for Audits, Site Visits, Monitoring and Law Enforcement Purposes. The Inspector General of the Department of Commerce, or any of his or her duly authorized representatives, and NTIA representatives, or any of their duly authorized representatives, shall have access to and the right to inspect any property or documents funded by the grant, or relating to the grant funding, of the parties to a grant, including their subsidiaries, if any, whether written, printed, recorded, produced, or reproduced by any electronic, mechanical, magnetic or other process or medium, in order to make audits, inspections, site visits, excerpts, transcripts, copies, or other examinations as authorized by law. An audit of an award may be conducted at any time.

C. Award Conditions: Awardees are required to comply with the Department of Commerce Financial Assistance Standard Terms and Conditions (March 8, 2008), the Department of Commerce American Recovery and Reinvestment Act Award Terms (April 9, 2009), and any Special Award Terms and Conditions that are included by the Grants Officer in the award.

X. Other Information

A. Discretionary Awards: The Federal Government is not obligated to make any award as a result of this announcement, and will fund only projects that are deemed likely to achieve the Program's goals and for which funds are available.

B. Third Party Beneficiaries: The State Broadband Data Program is a discretionary grant program that is not intended to and does not create any rights enforceable by third party beneficiaries.

C. Recovery Act Logo: As provided above in the section entitled “Funding Restrictions,” neither mapping nor planning projects may include construction costs. However, all projects that are funded by the Recovery Act, including projects under this Program, shall display signage that features the Primary Emblem throughout the construction phase. The signage should be displayed in a prominent location on site. Some exclusions may apply. The Primary Emblem should not be displayed at a size less than 6 inches in diameter.

D. Environmental and National Historic Preservation Requirements: All applicants seeking Federal funding may be required to provide adequate environmental information and gather information from Federal and State regulatory agencies, including the designated State Historic Preservation Officer and Indian tribes, as appropriate. Applications must comply with the National Environmental Policy Act of 1969, as amended (NEPA), and Section 106 of the National Historic Preservation Act of 1966, as amended (NHPA), and may require the submission of additional information early in the application process. Applicants will also be required to cooperate with NTIA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NTIA to make an assessment on any impacts that a project may have on the environment.

NEPA's implementing regulations require NTIA to provide, as appropriate, public notice of the availability of project-specific environmental documents. Detailed information on NTIA compliance with NEPA can be found at the following NOAA NEPA Web site: http://www.nepa.noaa.gov/procedures.html under “Department of Commerce Categorical Exclusions and Administrative Record” and the “NTIA Broadband Technology Opportunity Program Categorical Exclusions and Administrative Record.” Written requests for a hard copy should be submitted to: Steve Kokkinakis, National Oceanic and Atmospheric Administration, Office of Program Planning & Integration, SSMC3, Room 15723, 1315 East-West Highway, Silver Spring, MD 20910.

E. Davis-Bacon Wage Requirements: Pursuant to section 1606 of the Recovery Act, any project using Recovery Act funds requires the payment of not less than the prevailing wages for “all laborers and mechanics employed by contractors and subcontractors on projects funded directly by or assisted in whole or in part by and through the Federal Government.” ²⁸

²⁸ Recovery Act § 1606, 123 Stat. at 303.

F. Buy America: None of the funds appropriated or otherwise made available by the Recovery Act may be used for the construction, alteration, maintenance, or repair of a public building or public work (as such terms are defined in 2 CFR 176.140) unless all of the iron, steel, and manufacturing goods used in the project are produced in the United States.²⁹

²⁹ Recovery Act, § 1605, 123 Stat. at 303.

G. Financial and Audit Requirements: To maximize the transparency and accountability of funds authorized under the Recovery Act, all applicants are required to comply with the applicable regulations set forth in OMB's Interim Final Guidance for Federal Financial Assistance.³⁰

³⁰ See Requirements for Implementing Sections 1512, 1605, and 1606 of the American Recovery and Reinvestment Act of 2009 for Financial Assistance Awards, 74 FR 18, 449 (Apr. 23, 2009).

Recipients that expend $500,000 or more of Federal funds during their fiscal year are required to submit an organization-wide financial and compliance audit report. The audit must be performed in accordance with the U.S. General Accountability Office, Government Auditing Standards, located at http://www.gao.gov/govaud/ybk01.htm, and OMB Circular A-133, Audits of States, Local Governments, and Non-Profit Organizations, located at http://www.whitehouse.gov/omb/circulars/a133/a133.html. Awardees are responsible for ensuring that sub-recipient audit reports are received and for resolving any audit findings.

H. Deobligation: NTIA reserves the right to deobligate awards to recipients under this Notice that demonstrate an insufficient level of performance, or wasteful or fraudulent spending, and award these funds competitively to new or existing applicants.

I. Disposition of Unsuccessful Applications: Unsuccessful applications accepted for review for the Fiscal Year 2009 the State Broadband Data Program will be retained for two years, after which they will be destroyed.

J. Compliance with Applicable Laws and Administrative Requirements: Any recipient and subrecipient of funds under this Notice shall be required to comply with all applicable obligations set forth in the Recovery Act and all Federal and State laws. Administrative and national policy requirements for State Broadband Data Program funding, inter alia, are contained in the DOC American Recovery and Reinvestment Act Award Terms (Apr. 9, 2009) and Pre-Award Notification Requirements for Grants and Cooperative Agreements (DOC Pre-Award Notice), published in the Federal Register on February 11, 2008 (73 FR 7696), as amended. This notice may be accessed by entering the Federal Register volume and page number provided in the previous sentence at the following Internet Web site: http://www.gpoaccess.gov/fr/index.html. All State Broadband Data Program applicants are required to comply with all applicable provisions set forth in the DOC Pre-Award Notice.

Note that section 1515 of the Recovery Act authorizes the Inspector General to examine records and interview officers and employees of the grantee and other entities regarding the award of funds.³¹

³¹ Recovery Act § 1515, 123 Stat. at 289.

K. Waiver Authority: It is the general intent of NTIA not to waive any of the provisions set forth in this Notice. However, under extraordinary circumstances and when it is in the best interests of the Federal government, NTIA, upon its own initiative or when requested, may waive the provisions in this Notice. Waivers may only be granted for requirements that are discretionary and not mandated by statute or other applicable law. Any request for a waiver must set forth the extraordinary circumstances for the request and be included in the application or sent to the address provided in “NTIA Contacts” above.

L. Limitation of Liability: Under no circumstances will NTIA or the Department of Commerce be responsible for proposal preparation costs if this Program fails to receive funding or is canceled because of other NTIA priorities. Publication of this announcement does not oblige NTIA to award any specific project or to obligate any available funds.

M. Cooperation with NTIA and FCC National Broadband Mapping Efforts:

Cooperation. In addition to the other requirements provided in this Notice, all awardees agree to cooperate with NTIA and the FCC's national broadband mapping efforts. In particular, awardees agree that, to the extent necessary, they will coordinate with and lend reasonable assistance to NTIA and the FCC, or the employees, agents, representatives, contractors, vendors or consultants of each, in such parties' efforts to assist the recipients in their data collection or to collect broadband mapping related data directly in the States.

In the case that an application on behalf of a State fails to satisfy the requirements of this Program, NTIA reserves the right to collect broadband mapping data relating to such State directly or through NTIA's authorized agent, contractor or representative, using whatever means are within its legal authority.³²

³² Recovery Act § 6001(l), 123 Stat. at 516 requires that NTIA develop and maintain a comprehensive nationwide inventory map of existing broadband service capability and availability in the United States.

FCC Authority. Insofar as awardees are unwilling or unable to obtain requested data, NTIA reserves the right to request that the FCC exercise its authority to compel data production from any broadband service provider subject to its jurisdiction.

N. Administrative Procedure Act and Regulatory Flexibility Act Statement: This Notice is being issued without prior notice or public comment. The Administrative Procedure Act (APA), 5 U.S.C. 553, has several exemptions to rulemaking requirements. Among them is an exemption for “good cause” found at 5 U.S.C. 553(b)(B), which allows effective government action without rulemaking procedures where withholding the action would be “impracticable, unnecessary, or contrary to the public interest.”

Commerce has determined, consistent with the APA, that making these funds available under this Notice for broadband development, as mandated by the Recovery Act, is in the public interest. Given the emergency nature of the Recovery Act and the extremely short time period within which all funds must be obligated, withholding this Notice to provide for public notice and comment would unduly delay the provision of benefits associated with these broadband initiatives and be contrary to the public interest.

For the same reasons, Commerce finds good cause under 5 U.S.C. 553(d)(3) to waive the 30-day delay in effectiveness for this action. Because notice and opportunity for comment are not required pursuant to 5 U.S.C. 553(d)(3) or any other law, the analytical requirements of the Regulatory Flexibility Act (5 U.S.C. 601 et seq.) are inapplicable. Therefore, a regulatory flexibility analysis is not required and has not been prepared.

O. Congressional Review of Act: NTIA has submitted this Notice to the Congress and the Government Accountability Office under the Congressional Review of Agency Rulemaking Act, 5 U.S.C. 801 et seq. This Notice is a “major rule” within the meaning of the Act because it will result in an annual effect on the economy of $100,000,000 or more. This Notice sets out the administrative procedures for making grants to State, local, tribal and other State approved organizations for the development and implementation of statewide initiatives to identify and track the availability and adoption of broadband services within each State through the State Broadband Data Program.

With funds made available through the Recovery Act, the State Broadband Data Program will provide approximately $240 million in grants to assist eligible entities, including States, in developing State-specific data on the deployment levels and adoption rates of broadband services. All grant funds must be obligated by September 30, 2010. The State-specific data collected through this Program will help to determine those areas of the United States that are “unserved” or “underserved” and so inform the award of grants under BTOP, which grants also must be awarded no later than September 30, 2010. The data will also be used in the development of the national broadband map that NTIA is required to create and make publicly available by February 2011 under Section 6001(l) of the Recovery Act. A 60-day delay in implementing this Notice would hamper NTIA's mission to expeditiously provide assistance to eligible entities for the development of this key State-specific data on broadband deployment levels and adoption rates as well as hinder NTIA's ability to meet the purposes of the BTOP and national broadband map development in a timely fashion.

Thus, in compliance with Section 808(2) of the Congressional Review of Agency Rulemaking Act, 5 U.S.C. 808(2), for good cause, NTIA finds that notice and public comment on this Notice is impracticable and contrary to the public interest. This finding is consistent with the objectives of the Recovery Act, which specifically provides clear preferences for rapid agency action and quick-start activities designed to spur job creation and economic benefit.³³ Accordingly, this Notice shall take effect upon publication in the Federal Register.

³³ See, e.g., Recovery Act § 1602, 123 Stat. at 302.

P. Paperwork Reduction Act: This notice contains an information collection requirement subject to the requirements of the Paperwork Reduction Act (44 U.S.C. 3501 et seq.). Applicants have been requested to submit applications using Standard Form 424, Program Abstract/Program Narrative; Standard Form 424, Application for Federal Assistance; Standard Form 424A, Budget Information—Non-Construction Programs; Standard Form 424B, Assurances—Non-Construction Programs; and Standard Form LLL, Disclosure of Lobbying Activities, all of which have been approved by OMB under the respective control numbers 4040-0003, 4040-0004, 4040-0006, 4040-0007 and 0348-0046.

Copies of all forms, regulations, and instructions referenced in this Notice may be obtained from NTIA. Data furnished by the applicants will be used to determine eligibility for Program benefits. Furnishing the data is voluntary; however, the failure to provide data could result in Program benefits being withheld or denied.

The collection of information is vital to NTIA to ensure compliance with the provisions of this Notice and to fulfill the requirements of the Recovery Act. In summary, the collection of broadband data, as required under the Technical Appendix, is necessary in order to implement this Program.

Notwithstanding any other provision of law, no person is required to respond to, nor shall any person be subject to a penalty for failure to comply with a collection of information subject to the Paperwork Reduction Act unless that collection displays a currently valid OMB Control Number.

1. General Recovery Act and BDIA Reporting Requirements

(a) OMB Reporting Requirements Implementing the Recovery Act. Any grant awarded under this Notice shall be subject to the applicable regulations and statutes regarding reporting on Recovery Act funds. For specific Recovery Act requirements, see 2 CFR part 176.³⁴

³⁴ See also OMB Memorandum M-09-21, Implementing Guidance for the Reports on Use of Funds Pursuant to the American Recovery and Reinvestment Act of 2009, June 22, 2009 (OMB Implementing Guidance). For additional Recovery Act Implementation Guidance applicable to recipients, see OMB Implementing Guidance at 6-7.

(b) Accounting. If Recovery Act funds are combined with other funds to fund or complete projects and activities, Recovery Act funds must be accounted for separately from other funds and reported to NTIA or any Federal Web site established for Recovery Act reporting purposes. Moreover, recipients of funds under this Notice must also comply with the accounting requirements as established or referred to in this Notice.

(c) Required Data Elements. The awardee and each contractor engaged by the awardee must submit the following information to NTIA:

i. The total amount of Recovery Act funds received;

ii. The amount of Recovery Act funds received that were expended or obligated to projects or activities;

iii. A detailed list of all projects or activities for which Recovery Act funds were expended or obligated, including (a) the name of the project or activity; (b) a description of the project or activity; (c) an evaluation of the completion status of the project or activity; (d) an estimate of the number of jobs created and the number of jobs retained by the project or activity; and

iv. Detailed information on any subcontracts or subgrants awarded by the awardee to include the data elements required to comply with the Federal Funding Accountability and Transparency Act of 2006 (Pub. L. 102-282), allowing aggregate reporting on awards below $25,000 or to individuals.³⁵

³⁵ Recovery Act § 1512(c), 123 Stat. at 287.

2. Reporting Deadlines. Recovery Act reports are due to NTIA ten (10) calendar days after the quarter in which the award was issued ends and, unless otherwise noted, each quarter thereafter until a final report is made at the end of five (5) years. The final report should summarize the awardee's quarterly filings and state whether the project goals have been satisfied. Pursuant to OMB Guidelines, reports should be submitted electronically to http://www.federalreporting.gov. If the awardee fails to submit an acceptable quarterly report or audited financial statement within the timeframe designated in the grant or loan award, NTIA may suspend further payments until the awardee complies with the reporting requirements. Additional information regarding reporting requirements will also be specified at the time the award is issued.

3. State Broadband Data Program Reporting Requirements. All awardees under this Program will provide quarterly reports on:

(a) Achievement of project goals, objectives, and milestones (e.g., collection of a “substantially complete data set”; completion of data review or quality control process) as set forth by the applicant in their application timeline:

i. Expenditure of grant funds and how much of the award remains;

ii. Amount of non-Federal cash or in-kind investment that is being added to complete the project; and

iii. Whether the awardee is on schedule to provide broadband-related data in accordance with the mapping project timeline.

Upon completion of its State-level broadband map, each awardee will provide NTIA with a hypertext link to such map for display on a Web page on the Department of Commerce Web site.

Q. Payment of Federal Funds: NTIA will not make any payment under an award until the grantee has returned the signed CD-450 accepting the award and unless and until the recipient complies with all relevant requirements.

R. Executive Order 12372 (Intergovernmental Review): Applications under this Program are not subject to Executive Order (EO) 12372, “Intergovernmental Review of Federal Programs.”

S. Executive Order 12866: This notice has been determined to be Economically Significant under Executive Order 12866. The Secretary of Commerce was authorized by the Recovery Act to fund the BDIA and implement the State Broadband Data Program. This Program will make approximately $240 million in funds available for eligible entities to develop and implement statewide initiatives to identify and track the availability and adoption of broadband services within each State. This is a one-time grant program in which funds will be awarded no later than September 30, 2010.

T. Executive Order 13132 (Federalism): It has been determined that this Notice does not contain policies with Federalism implications as that term is defined in E.O. 13132.

U. Recovery Act: Additional information about the Recovery Act is available at http://www.Recovery.gov.

Authority: Title II, Division A of the American Recovery and Reinvestment Act of 2009, Public Law 111-5, 123 Stat. 115 (Feb. 17, 2009); Broadband Data Improvement Act, Title I of Public Law 110-385, 122 Stat. 4096 (Oct. 10, 2008).

Dated: July 2, 2009.
Lawrence E. Strickling,
Assistant Secretary for Communications and Information.

Appendix A: Technical Appendix

Awardees shall provide the following information to NTIA in the format specified via ftp to sftp.ntia.doc.gov or CD/DVD to Edward “Smitty” Smith, Program Director, State Broadband Data Program, National Telecommunications and Information Administration, U.S. Department of Commerce, 1401 Constitution Avenue, NW., Room 4898, Washington, DC 20230 no later than February 1, 2010. All data should be accurate as of June 30, 2009, unless otherwise indicated. Questions about the data content or formats should be addressed to Your Name at broadbandmapping@ntia.doc.gov.

1. Broadband Service Availability in Provider's Service Area

(a) Availability by Service Address-Service Associated With Specific Addresses

For each facilities-based provider of broadband service to specified end-user locations in their State, awardees shall provide NTIA with a list of all addresses at which broadband service is available to end users in the provider's service area, along with the associated service characteristics identified below.

For this purpose, “broadband service” is the provision, on either a commercial or non-commercial basis, of data transmission technology that provides two-way data transmission to and from the Internet with advertised speeds of at least 768 kilobits per second (kbps) downstream and greater than 200 kbps upstream to end users, or providing sufficient capacity in a middle mile project to support the provision of broadband service to end-users within the project area.

For this purpose, an “end user” of broadband service is a residential or business party, institution or State or local government entity that may use broadband service for its own purposes and that does not resell such service to other entities or incorporate such service into retail Internet-access services. Internet Service Providers (ISPs) are not “end users” for this purpose. An entity is a “facilities-based” provider of broadband service connections to end user locations if any of the following conditions are met: (1) It owns the portion of the physical facility that terminates at the end user location; (2) it obtains unbundled network elements (UNEs), special access lines, or other leased facilities that terminate at the end user location and provisions/equips them as broadband; or (3) it provisions/equips a broadband wireless channel to the end user location over licensed or unlicensed spectrum.

For this purpose, “broadband service” is “available” at an address if the provider does, or could, within a typical service interval (7 to 10 business days) without an extraordinary commitment of resources, provision two-way data transmission to and from the Internet with advertised speeds of at least 768 kilobits per second (kbps) downstream and greater than 200 kbps upstream to end-users at that address. The list of addresses shall be submitted to NTIA as a tab-delimited text file in which each record has the following format:

Record Format for Address Data for Each Provider
Field | Description | Type | Example
Provider Identification Data: |  |  |
Provider Name | Provider Name | Text | ABC Co.
DBA Name | “Doing-business-as” name | Text | Superfone, Inc.
FRN | Provider FCC Registration Number | Integer | 8402202.
ID | Sequential record number | Integer | 1.
End User location/Service Data: |  |  |
End-User Address | Complete address | Text | 1401 Constitution Ave., NW., Washington, DC 20230.
End-User Building Number | Building number | Text | 1401.
End-User Prefix Direction | Prefix direction | Text. |
End-User Street | Street name | Text | Constitution.
End-User Street Type | Street type | Text | Ave.
End-User Suffix Direction | Suffix direction | Text | NW.
End-User City | City | Text | Washington.
End-User State Abbreviation | Two-letter State postal abbreviation | Text | DC.
End-User ZIP Code | 5-digit ZIP code (with leading zeros) | Text | 20230.
End-User ZIP Plus 4 | 4-digit add-on code (with leading zeros) | Text | 0005.
Category of End User | Category of End User Served at Address (see details below for codes) | Integer | 3.
Technology of Transmission | Category of technology available for the provision of service at the address (see details below for codes) | Integer | 50.
Maximum Advertised Downstream Speed | Speed tier code for the maximum advertised downstream speed available at the address (see details below for codes) | Integer | 8.
Maximum Advertised Upstream Speed | Speed tier code for the maximum advertised upstream speed that is offered with the above maximum advertised downstream speed available at the address (see details below for codes) | Integer | 8.
Typical Downstream Speed | Speed tier code for the downstream data transfer throughput rate that most subscribers to service at the maximum advertised downstream speed (above) can achieve consistently during expected periods of heavy network usage (see details below for codes) | Integer | 8
Typical Upstream Speed | Speed tier code for the upstream data transfer throughput rate that most subscribers to service at the maximum advertised upstream speed (above) can achieve consistently during expected periods of heavy network usage (see details below for codes) | Integer | 8.

Address Record Format Details:

1. All fields are required.

2. Instructions for providers needing to obtain a FRN can be accessed at https://fjallfoss.fcc.gov/coresWeb/publicHome.do.

3. The ID field is a sequential integer ranging from 1 to the total number of addresses.

4. Address data fields should be space-delimited in standardized Postal Service form. See http://pe.usps.gov/cpim/ftp/pubs/Pub28/pub28.pdf.

5. Categories of end users should be entered as integers based on the following reference:

End User Codes
End user category code | End user category | Description
1 | Residential | Address denotes a residential living unit, individual living unit in institutional settings such as college dormitories and nursing homes and other locations designed primarily for residential use at which broadband service is available.
2 | Governmental | Address denotes a State or local government location at which broadband service is available.
3 | Small Business | Address denotes the location of a small business.
4 | Medium or Large Enterprise | Address denotes the location of a medium or large enterprise.
5 | Other | Address denotes a location not meeting any of the above descriptions.

6. For reporting the technology of transmission, report the technology used by the portion of the connection that terminates at the end-user location. If different technologies are used in the two directions of information transfer (“downstream” and “upstream”), report the connection in the technology category for the downstream direction. The technology of transmission should be entered as an integer based on the following reference:

Technology of Transmission Codes
Technology code | Description | Details
10 | Asymmetric xDSL. |
20 | Symmetric xDSL. |
30 | Other Copper Wireline | All copper-wire based technologies other than xDSL (Ethernet over copper and T-1 are examples).
40 | Cable Modem—DOCSIS 3.0. |
41 | Cable Modem—Other. |
50 | Optical Carrier/Fiber to the End User | Fiber to the home or business end user (does not include “fiber to the curb”).
60 | Satellite. |
70 | Terrestrial Fixed Wireless—Unlicensed. |
71 | Terrestrial Fixed Wireless—Licensed. |
80 | Terrestrial Mobile Wireless. |
90 | Electric Power Line. |
0 | All Other | Any specific technology not listed above.

7. Speed tiers should be entered as integers based on the following reference:

Speed Tier Codes
Upload speed tier | Download speed tier | Description
1 |  | Less than or equal to 200 kbps.
2 |  | Greater than 200 kbps and less than 768 kbps.
3 | 3 | Greater than or equal to 768 kbps and less than 1.5 mbps.
4 | 4 | Greater than or equal to 1.5 mbps and less than 3 mbps.
5 | 5 | Greater than or equal to 3 mbps and less than 6 mbps.
6 | 6 | Greater than or equal to 6 mbps and less than 10 mbps.
7 | 7 | Greater than or equal to 10 mbps and less than 25 mbps.
8 | 8 | Greater than or equal to 25 mbps and less than 50 mbps.
9 | 9 | Greater than or equal to 50 mbps and less than 100 mbps.
10 | 10 | Greater than or equal to 100 mbps and less than 1 gbps.
11 | 11 | Greater than or equal to 1 gbps.

8. Data for the entire State or territory should be submitted as a single, tab-delimited plain text file named “address_availability_XX.txt” where XX is the two-letter postal abbreviation for the State or territory.

(b) Availability by Shapefile—Wireless Services not Provided to a Specific Address

For those facilities-based providers of wireless broadband service that is not address specific (e.g., nomadic, terrestrial mobile wireless, or satellite), awardees may alternatively provide NTIA with GIS-compatible map layers depicting areas in which broadband service is available to end users.

For this purpose, an “end user” of broadband service is a residential or business party, institution, or State or local government entity that may use broadband service for its own purposes and that does not resell such service to other entities or incorporate such service into retail Internet-access service. Internet Service Providers (ISPs) are not “end users” for this purpose. An entity is a “facilities-based” provider of broadband service connections to end user locations if any of the following conditions are met: (1) It owns the portion of the physical facility that terminates at the end user location; (2) it obtains unbundled network elements (UNEs), special access lines, or other leased facilities that terminate at the end user location and provisions/equips them as broadband; or (3) it provisions/equips a broadband wireless channel to the end user location over licensed or unlicensed spectrum.

For this purpose, “broadband service” is “available” at a location if the provider does, or could, within a typical service interval (7 to 10 business days) without an extraordinary commitment of resources, provision two-way data transmission with advertised speeds of at least 768 kilobits per second (kbps) downstream and greater than 200 kbps upstream to end-users at that location. The data shall be submitted to NTIA as an ESRI Shapefile such that the associated data contains the following fields:

Record Format for Availability Area Data for Each Provider—Use Only in Connection With Wireless Services Not Provided to a Specific Address
Field | Description | Type | Example
Provider Name | Provider Name | Text | ABC Co.
DBA Name | “Doing-business-as” name | Text | Superfone, Inc.
FRN | Provider FCC Registration Number | Integer | 8402202.
Technology of Transmission | Category of technology for the provision of service (see details following Part 1(a) for codes) | Integer | 41.
Spectrum Used | If technology of transmission is wireless, is Cellular spectrum (824-849 MHz; 862-869) used to provide service (Y/N)? | Text | Y.
Spectrum Used | If technology of transmission is wireless, is 700 MHz spectrum (698-758 MHz; 775-788 MHz; 805-806 MHz) used to provide service (Y/N)? | Text | Y.
Spectrum Used | If technology of transmission is wireless, is Broadband Personal Communications Services spectrum (1850-1915 MHz; 1930-1995) used to provide service (Y/N)? | Text | Y.
Spectrum Used | If technology of transmission is wireless, is Advanced Wireless Services spectrum (1710-1755 MHz; 2100-2155) used to provide service (Y/N)? | Text | N.
Spectrum Used | If technology of transmission is wireless, is Broadband Radio Service/Educational Broadband Service spectrum (2496-2690 MHz) used to provide service (Y/N)? | Text | N.
Spectrum Used | If technology of transmission is wireless, is Unlicensed (including broadcast television “white spaces”) spectrum used to provide service (Y/N)? | Text | N.
Spectrum Used | If technology of transmission is wireless, but the spectrum used to provide service is not listed above, please identify as one of the following: Specialized Mobile Radio Service (SMR) (817-824 MHz; 862-869 MHz; 896-901 MHz; 935-940 MHz), Wireless Communications Service (WCS) spectrum (2305-2320 MHz; 2345-2360 MHz), 3650-3700 MHz, Satellite (L-band, Big LEO, Little LEO, 2 GHz) | Text | SMR.
Maximum Advertised Downstream Speed | Speed tier code for the maximum advertised downstream speed available (see details following Part 1(a) for codes) | Integer | 8.
Maximum Advertised Upstream Speed | Speed tier code for the maximum advertised upstream speed that is offered with the above maximum advertised downstream speed available (see details following Part 1(a) for codes) | Integer | 8.
Typical Downstream Speed | Speed tier code for the downstream data transfer throughput rate that most subscribers to service at the maximum advertised downstream speed (above) can achieve consistently during expected periods of heavy network usage (see details following Part 1(a) for codes) | Integer | 8.
Typical Upstream Speed | Speed tier code for the upstream data transfer throughput rate that most subscribers to service at the maximum advertised upstream speed (above) can achieve consistently during expected periods of heavy network usage (see details following Part 1(a) for codes) | Integer | 8.

Availability Area Shapefile Details:

1. Instructions for providers needing to obtain a FRN can be accessed at https://fjallfoss.fcc.gov/coresWeb/publicHome.do.

2. All map areas must be closed, non-overlapping polygons with a single, unique identifier.

3. Any variation in any of the required fields necessitates the creation of a separate closed, non-overlapping polygon.

4. In the area covered by each polygon, subscribers must have broadband service with the speed characteristics shown in the data record 95% of the time to within 50 feet of the polygon's boundary.

5. The technology of transmission should be entered as an integer based on the coding scheme shown in Part 1(a) above.

6. The speed tiers should be entered as integers according to the reference in Part 1(a) above.

7. The data must be expressed using the WGS 1984 geographic coordinate system.

8. Maps must be accompanied by metadata or a plain text “readme” file that contains a comprehensive explanation of the methodology employed to generate the map layer including any necessary assumptions and an assessment of the accuracy of the finished product.

9. Since ESRI Shapefiles typically consist of 5 to 7 individual files including the associated metadata and geodatabase, data for the entire State or territory should be submitted as a single, zipped file containing all the component files. The file should be named “area_availability_XX.zip” where XX is the two-letter postal abbreviation for the State or territory.

2. Residential Broadband Service Pricing in Provider's Service Area

(a) Average Revenue per End User and Weighted Average Speed

For each broadband service provider in the State, awardees shall provide NTIA with (1) average revenue per end user (ARPU) associated with residential subscribers in the month for which other data is reported (i.e., June or December, as applicable) by county, and (2) subscriber-weighted nominal speed (blended average rate).

For this purpose, a “residential subscriber” of broadband service is any end user assigned to Category 1, in Part 1.(a), above.

For this purpose, “broadband service” is the provision to end users of two-way data transmission to and from the Internet with advertised speeds of at least 768 kilobits per second (kbps) downstream and greater than 200 kbps upstream.

These data shall be submitted to NTIA as a tab-delimited text file in which each record has the following format:

Record Format for Residential Broadband Service Pricing and Speed Characteristics by County for Each Provider
Field | Description | Type | Example
Record Identifiers:
Provider Name | Provider Name | Text | ABC Co.
DBA Name | “Doing-business-as” name | Text | Superfone, Inc.
FRN | Provider FCC Registration Number | Integer | 8402202.
County | 3-digit County ANSI (FIPS) Code | Integer | 560.
State | 2-digit State ANSI (FIPS) Code | Integer | 51.
Technology of Transmission | Category of technology used in the provision of service (see details following Part 1(a) for codes) | Integer | 2.
ARPU, All Advertised Speed Offerings | Average monthly revenue per residential user for the county (see details below for methodology) | Float | 34.45.
Subscriber-Weighted Nominal Speed | Subscriber-weighted nominal speed (blended average rate in kbps) (see details below for methodology) | Float | 2753.3.

Service Plan Record Detail:

1. Instructions for providers needing to obtain a FRN can be accessed at https://fjallfoss.fcc.gov/coresWeb/publicHome.do.

2. Use the set of counties that best approximate each market area of the provider. County ANSI (formerly FIPS) codes may be accessed at http://www.census.gov/geo/www/ansi/ansi.html.

3. For each county in the provider's broadband Internet service area, all applicable fields must be populated.

4. For reporting the technology of transmission, report the technology used by the portion of the connection that terminates at the end-user location. If different technologies are used in the two directions of information transfer (“downstream” and “upstream”), report the connection in the technology category for the downstream direction. The technology of transmission should be entered as an integer based on the coding scheme shown in Part 1(a) above.

5. The speed tiers should be entered as integers according to the reference in Part 1(a) above.

6. As an example, for June 2009, a provider's ARPU should be calculated by dividing the provider's total monthly residential broadband service revenue for the county by its average monthly residential broadband subscribers.

(a). The ARPU entered in the record format above must be the monthly ARPU for June 2009 calculated by dividing (i) total monthly residential broadband service revenue by (ii) average monthly residential broadband subscribers.

i. Numerator: Total monthly residential broadband service revenue must be calculated as total revenue for the month (monthly data access fees including discounts, overage charges and service or connection fees, but excluding all taxes, fees and surcharges paid to government programs, e.g., E911) attributable to the provision of broadband service to billed residential subscribers in the county for June 2009.

ii. Denominator: Average monthly residential broadband subscribers must be calculated as the simple average of beginning-of-month and end-of-month counts of billed residential subscribers to broadband service in the county for June 2009.

7. A provider's subscriber-weighted nominal speed (in kbps) should be calculated as the sum of the products of the provider's advertised maximum download data transmission rate (in kbps) for each residential rate tier advertised by the provider in the county, times the average monthly number of residential subscribers receiving the advertised download transmission rate tier for the relevant reporting month (i.e., June or December, as applicable), divided by the average total number of residential subscribers for all the included data transmission rate tiers in the county for that month. This is expressed in the following formula:

For example, if the service provider offers two tiers of service with advertised maximum download speeds of 1500 kbps and 6000 kbps, calculate the product of 1500 kbps times the average monthly number of residential subscribers to the 1500 kbps speed tier plus the product of 6000 kbps times the average monthly number of residential subscribers to the 6000 kbps speed tier and divide the sum by the sum (or total) of the average monthly number of residential subscribers in both tiers.

8. Data for the entire State or territory should be submitted as a single, tab-delimited plain text file named “pricing_XX.txt” where XX is the two-letter postal abbreviation for the State or territory.

3. Broadband Service Infrastructure in Provider's Service Area

(a) Last-Mile Connection Points

Awardees shall provide NTIA with a list of the locations of the first points of aggregation in the networks (serving facilities) used by facilities-based providers to provide broadband service to end users.

For this purpose, an “end user” of broadband service is a residential or business party, institution, or State or local government entity that may use broadband service for its own purposes and that does not resell such service to other entities or incorporate such service into retail Internet-access service. Internet Service Providers (ISPs) are not “end users” for this purpose. An entity is a “facilities-based” provider of broadband service connections to end user locations if any of the following conditions are met: (1) It owns the portion of the physical facility that terminates at the end user location; (2) it obtains unbundled network elements (UNEs), special access lines, or other leased facilities that terminate at the end user location and provisions/equips them as broadband; or (3) it provisions/equips a broadband wireless channel to the end user location over licensed or unlicensed spectrum.

“Last-mile” infrastructure consists of facilities used to provide broadband service between end-user (including residences, businesses, community anchor institutions, etc.) equipment and the appropriate access point, router or first significant aggregation point in the broadband network. Examples of such facilities include, among other things: For broadband service provided by incumbent local exchange carriers, connections between end users and the central office or remote terminal; for cable modem service, connections between end users and the cable headend or fiber node; for wireless broadband service, connections between the wireless end-user device or customer premises equipment and the wireless tower or base station; for WiFi broadband service, connections between end users and the WiFi access point; or the analogous portion of the facilities of other providers of broadband services. The first points of aggregation in this context are therefore the central office, remote terminal, cable headend, wireless tower or base station, or the like.

For this purpose, “broadband service” is the provision of two-way data transmission with advertised speeds of at least 768 kilobits per second (kbps) downstream and greater than 200 kbps upstream to end users. These data shall be submitted to NTIA as a tab-delimited text file in which each record has the following format:

Record Format for Last-Mile Connection Points Data for Each Provider
Field | Description | Type | Example
Provider Name | Provider Name | Text | ABC Co.
DBA Name | “Doing-business-as” name | Text | Superfone, Inc.
FRN | FCC Registration Number | Integer | 8402202.
Technology of Transmission | Category of technology for the provision of service (see details following Part 1(a) for codes) | Integer | 10.
Serving Facility Backhaul Capacity | Upstream capacity of the serving facility (see details below) | Integer | 1.
Serving Facility Backhaul Type | Type of upstream transport facility (1=Fiber; 2=Copper; 3=Hybrid Fiber Coax (HFC); 4=Wireless) | Integer | 1.
End-users served | Count of end users served from this point of aggregation | Integer | 24.
Latitude | Latitude in decimal degrees of facility | Float | 38.884560.
Longitude | Longitude in decimal degrees of facility | Float | −77.028123.
Elevation | Elevation relative to grade to the nearest foot (positive integers indicate above grade, negative below grade) | Integer | 2.

Connections to Last-Mile Infrastructure Record Detail:

1. Instructions for providers needing to obtain a FRN can be accessed at https://fjallfoss.fcc.gov/coresWeb/publicHome.do.

2. The technology of transmission should be entered as an integer based on the coding scheme shown in Part 1(a) above.

3. The capacity of the serving facility should represent the capacity as currently configured and be expressed according to the following reference:

Serving Facility Codes
Data rate code | Data rate
1 | Less than 1.5 mbps.
2 | Greater than or equal to 1.5 mbps and less than 3 mbps.
3 | Greater than or equal to 3 mbps and less than 6 mbps.
4 | Greater than or equal to 6 mbps and less than 10 mbps.
5 | Greater than or equal to 10 mbps and less than 25 mbps.
6 | Greater than or equal to 25 mbps and less than 50 mbps.
7 | Greater than or equal to 50 mbps and less than 100 mbps.
8 | Greater than or equal to 100 mbps and less than 1 gbps.
9 | Greater than or equal to 1 gbps.

4. Coordinates must be expressed using the WGS 1984 geographic coordinate system.

5. Data for the entire State or territory should be submitted as a single, tab-delimited plain text file named “lastmile_XX.txt” where XX is the two-letter postal abbreviation for the State or territory.

(b) Middle-Mile and Backbone Interconnection Points

In addition to the information shown in the tables above, awardees shall provide NTIA with a list of interconnection points of facilities in their State that provide connectivity between (a) a service provider's network elements (or segments) or (b) between a service provider's network and another provider's network, including the Internet backbone. (Collectively, (a) and (b) are “middle-mile and backbone interconnection points”).

Middle-mile and backbone interconnection points typically enable relatively fast data rates, are built to handle substantial capacities, and may be service-quality assured.

Examples might include: points of interconnection enabling communications between an incumbent local exchange carrier central office and the Internet, between a cable aggregation point (headend) and the Internet, or between a wireless base station and the provider's core network elements that connect to other networks including the Internet.

These data shall be submitted to NTIA as a tab-delimited text file in which each record has the following format:

Record Format for Middle-Mile and Internet Backhaul Connection Points Data for Each Provider
Field | Description | Type | Example
Provider Name | Provider Name | Text | ABC Co.
DBA Name | Doing-business-as name | Text | Superfone, Inc.
FRN | FCC Registration Number | Integer | 8402202.
Ownership | Is the facility owned (0) or leased (1)? | Integer | 0.
Serving Facility Capacity | Serving capacity of transport facility (see details below) | Integer | 1.
Serving Facility Type | Type of transport facility (1=Fiber; 2=Copper; 3=Hybrid Fiber Coax (HFC); 4=Wireless) | Integer | 1.
Latitude | Latitude in decimal degrees | Float | 38.884560.
Longitude | Longitude in decimal degrees | Float | −77.028123.
Elevation | Elevation relative to grade to the nearest foot (positive integers indicate above grade, negative below grade) | Integer | −10.

Connections Record Detail:

1. Instructions for providers needing to obtain a FRN can be accessed at https://fjallfoss.fcc.gov/coresWeb/publicHome.do.

The capacity of the serving facility should represent the capacity as currently configured and be expressed according to the following reference:

Serving Facility Codes
Data rate code | Interconnection point data rate
1 | Multiple T1s and less than 40 mbps.
2 | Greater than 40 mbps and less than 150 mbps.
3 | Greater than 150 mbps and less than 600 mbps.
4 | Greater than or equal to 600 mbps and less than 2.4 gbps.
5 | Greater than or equal to 2.4 gbps and less than 10 gbps.
6 | Greater than or equal to 10 gbps.

2. Coordinates must be expressed using the WGS 1984 geographic coordinate system.

3. Data for the entire State or territory should be submitted as a single, tab-delimited plain text file named “middlemile_XX.txt” where XX is the two-letter postal abbreviation for the State or territory.

4. Community Anchor Institutions

Awardees shall provide NTIA with a list of community anchor institutions in their State, along with the associated information described below.

“Community Anchor Institutions” consist of schools, libraries, medical and healthcare providers, public safety entities, community colleges and other institutions of higher education, and other community support organizations and entities.

The list shall be submitted to NTIA as a tab-delimited text file in which each record has the following format:

Record Format for Community Anchor Institutions
Field | Description | Type | Example
Name | Institution Name | Text | John Smith Community Center.
Address | Complete address of institution | Text | 1401 Constitution Ave., NW., Washington DC 20230
Latitude | Latitude in decimal degrees of institution | Float | 38.884560.
Longitude | Longitude in decimal degrees of institution | Float | −77.028123.
Category | Category of institution (see details below for category codes) | Integer | 2.
Broadband Service? | Does institution subscribe to broadband service at location? | Text | Y.
Technology of Transmission | Category of technology used for the provision of broadband service to the institution (see details following Part 1(a) for codes) | Integer | 10.
Advertised Downstream Service Speed | Speed tier code for the downstream advertised data transfer throughput rate associated with the service that the institution receives (see details following Part 1(a) for codes) | Integer | 8.
Advertised Upstream Service Speed | Speed tier code for the upstream data transfer throughput rate associated with the service that the institution receives (see details following Part 1(a) for codes) | Integer | 8.

The category of each Community Anchor Institution should be expressed according to the following reference:

Community Anchor Institution Category Codes
Category code | Category
1 | School—K through 12.
2 | Library.
3 | Medical/healthcare.
4 | Public safety.
5 | University, college, other post-secondary.
6 | Other community support—government.
7 | Other community support—nongovernmental.

Appendix B: Policy Justification

As discussed in the Notice of Funds Availability (Notice) for the State Broadband Data Program, dated July 1, 2009, NTIA, the FCC, and the RUS cosponsored a series of public meetings and released a Request for Information (RFI) to initiate public outreach about the current availability of broadband service in the United States and ways in which the availability of broadband service could be expanded.³⁶

³⁶ See Notice: American Recovery and Reinvestment Act of 2009 Broadband Initiatives, 74 FR 8914 (Feb. 27, 2009).

The RFI requested the submission of information on a broad range of topics including topics related to broadband mapping, the American Recovery and Reinvestment Act (Recovery Act) and the Broadband Data Improvement Act (BDIA). In response to the RFI and the public meetings, NTIA received over 1,000 comments from institutions and individuals on the broadband initiatives funded by the Recovery Act and over 200 comments relating to broadband mapping.³⁷

³⁷ Agendas, transcripts, and presentations from each meeting are available on NTIA's Web site at http://www.ntia.doc.gov/broadbandgrants/meetings.html. All public comments in Docket No. 090309298-9299-01 are on file with NTIA and may be viewed on NTIA's Web site at http://www.ntia.doc.gov/broadbandgrants/comments.

The comments relating to broadband mapping included comments regarding: (1) The information that should be included on the national broadband map; (2) the level of geographic or other granularity the national broadband map should provide; (3) whether there are State or other mapping programs that provide models for the statewide inventory grants; (4) the information States should collect as conditions of receiving statewide inventory grants; and (5) the technical specifications that should be required of grantees to ensure that statewide inventory maps can be efficiently included in a national broadband map.

Map Information. In the RFI, NTIA requested additional information regarding the elements that the national broadband map should include.³⁸ NTIA also examined mapping methodologies employed at the State level and consulted with the Federal Communications Commission (FCC) to determine what data elements should be included in a national standard that would be applied to the collection of broadband mapping related data by awardees under this Program so as to better ensure comprehensiveness, cohesiveness and uniformity in the national broadband map.³⁹

³⁸ 74 FR at 10718.

³⁹ Commenters offered a range of comments about what data the map should include: State of North Dakota at 9 (Apr. 14, 2009) (types of technology used by providers); National Association of Telecommunications Officers and Advisors (NATOA) at 24 (Apr. 13, 2009) (actual and offered speeds and prices for a particular area); Joint Comments of Massachusetts Broadband Institute, Massachusetts Department of Telecommunications and Cable, and Vermont Department of Public Service (Joint Comments) at 7 (Apr. 14, 2009) (current availability of service, adoption rates, and service provider identity); The Telecommunications Industry Association (TIA) at 19 (Apr. 10, 2009) (location of infrastructure points); Pennsylvania Governor's Office of Administration (Apr. 13, 2009) (location of water and cell towers); Big Think Strategies at 9 (Apr. 13, 2009) (location of “meet-me-backbone-points”); University of Nebraska at 4 (Apr. 13, 2009) (both dark and lit fiber); FiberTower Corporation at 13 (Apr. 13, 2009) (locations of broadband enabled buildings); County Office of Economic Development, Garrett County, MD at 13 (trunking locations/nodes); Wireless Internet Service Providers Associations (WISPA) at 13 (Apr. 13, 2009) (point-of-presence locations); Public Interest Spectrum Coalition at 10 (Apr. 13, 2009) (spectrum frequency/signal strength by time of year/day); ZeroDivide at 13 (Apr. 13, 2009) (adoption rates in new broadband deployment areas); RF Check, Inc. at 1 (GPS mapping); City of Boston at 9 (Apr. 13, 2009) (data transfer rates); Association of Public Safety Communications Officials (APCO) at 13 (Apr. 13, 2009) (network interoperability); FiberTower Corporation at 4-6 (Apr. 14, 2009) (bandwidth availability for backhaul); CostQuest/LinkAmerica Alliance at 10 (RF propagation and antennae direction); FiberTower Corporation at 10 (middle and last mile bandwidth capacity); CostQuest/LinkAmerica Alliance at 12 (topography features and location of facilities); Rural Internet and Broadband Policy Group at 9, 10 (traffic network architecture); CostQuest/LinkAmerica Alliance at 10 (social demographic data); National Organization of Black County Officials (NCBM et al.) at 3 (Apr. 14, 2009) (race); NCBM et al. at 3 (gender, income, age, education, and difference in language(s)); Rural and Tribal Systems Development (RTSD) at 17 (Apr. 14, 2009) (political subdivisions); NCBM et al. at 3 (employment status); Space Data at 6 (economically disadvantaged areas); FirstMile.US at 14 (Apr. 10, 2009) (physical and financial accessibility); CostQuest/LinkAmerica Alliance at 10 (location of public technology access and learning centers (schools); Level 3 Communications at 15 (Apr. 13, 2009) (population trends); The People of the State of California and Governor Arnold Schwarzenegger at 42, 46, 48 (Apr. 13, 2009) (subscriber data); CostQuest/LinkAmerica Alliance at 10 (customer class); National Emergency Number Association (NENA) at 16-18 (Apr. 13, 2009) (public safety broadband availability); Intrado Inc. and Intrado Communications Inc. (Intrado) at 10 (Apr. 10, 2009) (PSAP locations); Apex CoVantage at 4 (road segments); Joint Comments at 7 (Apr. 14, 2009) (broadband availability type); CostQuest/LinkAmerica Alliance at 10 (locations of public libraries); Pennsylvania Governor's Office of Administration at 6, 7 (broadband stimulus fund projects); State of Iowa at 7 (Apr. 13, 2009) (rights-of-way); National Association of County and City Health Officials (NACCHO) at 3 (Apr. 13, 2009) (health care facilities); Rural Internet and Broadband Policy Group at 4 (Apr. 13, 2009) (voice and data connectivity rates in tribal areas); Broadpoint Inc. at 3 (Apr. 13, 2009) (offshore economic and business hubs); Stratsoft LLC at 1 (Mar. 23, 2009) (frequency of electrical outages, electrical currents for radios, and usage data).

NTIA finds that the data elements contained in the Technical Appendix attached to the Notice must be collected by each awardee under this Program and that such data must be provided to NTIA pursuant to the terms of the Notice. To the greatest extent possible, at every address, the type and speed of broadband service will be provided. For providers of wireless broadband service, the spectrum used for the provision of service will be provided. If the applicable broadband service provider so chooses, the provider's identity will also be available, otherwise the map will simply display that an anonymous provider utilizing a particular type of technology is providing service to a location. Furthermore, to the extent possible, the service areas of individual providers will be aggregated with other providers of the same technology type. NTIA has made this determination based on its review of the comments, an examination of mapping methodologies employed at the State level, and consultation with the FCC.

Though collected under this Program, data concerning the Average Revenue Per User (ARPU) and data regarding the type, technical specification, or location of infrastructure owned, leased, or used by a broadband service provider will not be displayed on the public national broadband map.⁴⁰ The above paragraphs notwithstanding, if provider consent is granted, NTIA may display the above provider-specific information on the national broadband map.

⁴⁰ However, NTIA is considering methods for displaying some pricing data that will be collected through other avenues.

In addition to the above broadband-related information, the national broadband map may display a wide range of additional, economic, and demographic data derived from other sources. Such data, however, are not the subject of the Notice.

State broadband maps developed pursuant to awards under this Program should display, at a minimum, technology type and speed, subject to the restrictions contained herein, including those within the section entitled “Confidential Information” of the Notice. Nothing in the Notice, however, is intended to otherwise limit the data elements that States may include in their State broadband maps or the format that they use to display such data elements, and States are encouraged to adapt their maps to fit their individual State needs.⁴¹

⁴¹ The fact that some data elements have not been included in the technical requirements for the national broadband map, or not made publicly available, does not indicate that those elements may not be useful for individual State purposes.

Level of Granularity. NTIA's RFI included a question regarding the level of geographic or other granularity at which the national broadband map should display information on broadband service.⁴² Commenters presented a range of suggestions for the appropriate level of granularity.⁴³

⁴² 74 FR at 10718.

⁴³ The majority of commenters supported street address level granularity. See, e.g., Vermont Center for Geographical Information (VCGI) at 2 (Mar. 24, 2009). There was also support for data collection at lower levels of granularity. See, e.g., City of Beverly Hills at 3 (Apr. 10, 2009) (census block); Lehigh Valley Cooperative Telephone Association at 6 (Apr. 13, 2009) (census tract level per FCC form 477 data collection); Traverse Technologies, Inc. at 2 (Mar. 25, 2009) (providers' customer service areas).

Based on its review of the comments, examination of mapping methodologies currently employed at the State level, and consultation with the FCC, NTIA finds that data at the address level, or as close to the address level as practicable considering the technology type being employed, as set out in the Technical Appendix, should be collected by each awardee under this Program and that such data must be provided to NTIA pursuant to the terms of the Notice. State broadband maps developed pursuant to awards under this Program should display data at the address level, or as close to the address level as practicable considering the technology type being employed and as provided more fully in the Technical Appendix.

State Models. NTIA has gathered information from a variety of sources, including mapping experts from many States. Additionally, commenters provided suggestions on what maps NTIA should use as models for the national broadband map.⁴⁴ After careful consideration and consultation with the FCC and other agencies, determined that none of the suggested State map models contain all of the data sets necessary for the national broadband map, but may prove to be instructive and the source of valuable ideas. The information required under the Notice and Technical Appendix, however, is the principal source of information for the national map and guidance for applicants under this Program.

⁴⁴ See, e.g., CostQuest/LinkAmerica Alliance at 17 (Alabama map); State of Arizona Government Information Technology Agency at 9 (Arizona Map); City and County of San Francisco at 25 (Apr. 13, 2009) (California Map); State of Iowa at 7 (Hawaii map); Oakland County, Michigan at 7 (Illinois Map); ConnectKentucky at 3 (Kentucky Map); Joint Comments at 8, 13 (Massachusetts Map); Diane Wells at 1, 2 (Apr. 13, 2009) (Minnesota Map); State of Iowa at 7 (Missouri Map); Joint Response of the New York State CIO et al. at 4 (New York Map); Pennsylvania Governor's Office of Administration at 8 (North Carolina Map); Pennsylvania Governor's Office of Administration at 8 (Pennsylvania Map); Scott County Mayor Ricky A. Keeton at 1 (Apr. 13, 2009) (Tennessee Map); Stratrum Broadband at 19 (Mar. 31, 2009) (Vermont Map); City of Boston at 9 (Virginia Tech Map); ViaStat, Inc. at 14, 15 (Apr. 13, 2009) (Australia Map); City of Boston at 9 (New Zealand Map).

State Collection of Mapping Information. State participation is critical to the national broadband mapping effort. Commenters expressed a range of opinions on the information that States should be required to collect as a condition of receiving statewide inventory grants.⁴⁵ In order to promote the efficient creation of the State and national broadband maps, NTIA and RUS will require that broadband internet service providers that apply for infrastructure grants under BTOP and RUS' Broadband Initiatives Program (BIP) agree to provide the data that awardees under this Program are required to collect pursuant to the Technical Appendix. NTIA and RUS find that the BIP/BTOP program's incentive structure should complement the goals of the State and national mapping efforts and this requirement will further facilitate data collection.

⁴⁵ The RFI included a question regarding the specific information the States should collect as conditions of receiving statewide inventory grants (74 FR 10718). Most commenters agreed that States should collect information. See, e.g., WISPA at 13. There was disagreement over whether State data collection should be a condition to qualify for grants. See, e.g., Windstream Communications, Inc. at 27. Some commenters did not think providers should be required to provide mapping data. See, e.g., Independent Telephone and Telecommunications Alliance at 35. Some commenters recommended that providers be required to submit data. See, e.g., State of Missouri/Missouri Public Services Commission at 12.

Technical Specifications of State Maps. The BDIA is silent on the technical specifications that should be included in each State map. NTIA sought comment in the RFI on the specifications that should be required of State Broadband Data Program grantees to ensure that the data collected at the State level can be efficiently incorporated into the national broadband map.⁴⁶ As stated above, NTIA also consulted with the FCC and examined mapping methodologies currently employed at the State level, regarding the technical specifications with which awardees should comply in composing their maps with program funds.

⁴⁶ 74 FR at 10718.

In response to the RFI, commenters provided varying insights on the data sets that should be displayed,⁴⁷ and the technical format of the information provided.⁴⁸ NTIA has determined to require that data be collected as specified in the Technical Appendix attached hereto.

⁴⁷ NTIA received comments on the technical specifications of the map including the following: Triangle J Council of Governments Cable Broadband Consortium at 15 (Apr. 13, 2009) (NTIA should establish a standard template, such as a database directory, by which information is submitted); CostQuest/LinkAmerica Alliance at 18 (NTIA should clearly define certain data sets such as: Coverage areas, speed and service attributes, quality of service data, technologies, infrastructure elements, demand and demographic data price, deployment costs); The People of the State of California and Governor Arnold Schwarzenegger at 46 (NTIA should establish definitions for address); National Tribal Telecommunications Association at 3, 4 (NTIA should show customer class (residential, business, etc.); Joint Response of the New York State CIO et al. at 11 (data should allow for multiple demographic overlays); Apex CoVantage at 4 (link the customer database to the provider database and link the political data to census data); SEDA—Council of Governments at 6 (searchable by address and display in graphical rather than tabular format).

⁴⁸ Link America Alliance at 17 (NTIA should follow Federal Geospatial Data Content standards that included geographic and topographic information); University of Nebraska at 4 (NTIA should require GIS software compatibility); The People of the State of California and Governor Arnold Schwarzenegger at 47 (NTIA should create Metadata (data about the data) according to Federal Geospatial Data Content (FGDC) standards to be generated after geo-coding); State of Arizona Government Information Technology Agency at 9 (NTIA should create Metadata (data about the data) according to ESRI mapping standards); CostQuest/Link America Alliance at 18, 19 (maps and features (data layers) should be collected in accordance with Open Geospatial Consortium (OGC) standards for geospatial data).

[FR Doc. E9-16103 Filed 7-7-09; 8:45 am]

BILLING CODE 3510-60-P